DEPARTMENT OF TRANSPORTATION

Office of the Secretary

14 CFR Chs. I-III

23 CFR Chs. I-III

33 CFR Chs. I and IV

46 CFR Chs. I-III

48 CFR Ch. 12

49 CFR Subtitle A, Chs. I-VI, and Chs. X-XII

[DOT-OST-1999-5129]

Department Regulatory Agenda; Semiannual Summary

AGENCY: Office of the Secretary, DOT.

ACTION: Semiannual regulatory agenda.

SUMMARY: The Regulatory Agenda is a semiannual summary of all current and projected rulemakings, reviews of existing regulations, and completed actions of the Department. The intent of the Agenda is to provide the public with information about the Department of Transportation's regulatory activity planned for the next 12 months. It is expected that this information will enable the public to more effectively participate in the Department's regulatory process. The public is also invited to submit comments on any aspect of this Agenda.

FOR FURTHER INFORMATION CONTACT:

General

You should direct all comments and inquiries on the Agenda in general to Jonathan Moss, Assistant General Counsel for Regulation, Department of Transportation, 1200 New Jersey Avenue SE., Washington, DC 20590; (202) 366-4723.

Specific

You should direct all comments and inquiries on particular items in the Agenda to the individual listed for the regulation or the general rulemaking contact person for the operating administration in appendix B.

Table of Contents

Supplementary Information

Background

Significant/Priority Rulemakings

Explanation of Information on the Agenda

Request for Comments

Purpose

Appendix A—Instructions for Obtaining Copies of Regulatory Documents

Appendix B—General Rulemaking Contact Persons

Appendix C—Public Rulemaking Dockets

Appendix D—Review Plans for Section 610 and Other Requirements

SUPPLEMENTARY INFORMATION:

Background

Improvement of our regulations is a prime goal of the Department of Transportation (Department or DOT). Our regulations should be clear, simple, timely, fair, reasonable, and necessary. They should not be issued without appropriate involvement of the public; once issued, they should be periodically reviewed and revised, as needed, to ensure that they continue to meet the needs for which they originally were designed. To view additional information about the Department's regulatory activities online, go to http://www.dot.gov/regulations. Among other things, this Web site provides a report updated monthly on the status of the DOT significant rulemakings listed in the semiannual regulatory agenda.

To help the Department achieve its goals and in accordance with Executive Order (E.O.) 12866, “Regulatory Planning and Review,” (58 FR 51735; Oct. 4, 1993) and the Department's Regulatory Policies and Procedures (44 FR 11034; Feb. 26, 1979), the Department prepares a semiannual regulatory agenda. It summarizes all current and projected rulemakings, reviews of existing regulations, and completed actions of the Department. These are matters on which action has begun or is projected during the next 12 months or for which action has been completed since the last Agenda.

The Agendas are based on reports submitted by the offices initiating the rulemaking and are reviewed by OST.

The Internet is the basic means for disseminating the Unified Agenda. The complete Unified Agenda is available online at www.reginfo.gov in a format that offers users a greatly enhanced ability to obtain information from the Agenda database.

Because publication in the Federal Register is mandated for the regulatory flexibility agendas required by the Regulatory Flexibility Act (5 U.S.C. 602), DOT's printed Agenda entries include only:

1. The agency's Agenda preamble;

2. Rules that are in the agency's regulatory flexibility agenda, in accordance with the Regulatory Flexibility Act, because they are likely to have a significant economic impact on a substantial number of small entities; and

3. Any rules that the agency has identified for periodic review under section 610 of the Regulatory Flexibility Act.

Printing of these entries is limited to fields that contain information required by the Regulatory Flexibility Act's Agenda requirements. These elements are: Sequence Number; Title; Section 610 Review, if applicable; Legal Authority; Abstract; Timetable; Regulatory Flexibility Analysis Required; Agency Contact; and Regulation Identifier Number (RIN). Additional information (for detailed list, see section heading “Explanation of Information on the Agenda”) on these entries is available in the Unified Agenda published on the Internet.

Significant Rulemakings

The Agenda covers all rules and regulations of the Department. We have classified rules as significant in the Agenda if they are, essentially, very beneficial, controversial, or of substantial public interest under our Regulatory Policies and Procedures. All DOT significant rulemaking documents are subject to review by the Secretary of Transportation. If the Office of Management and Budget (OMB) decided a rule is subject to its review under Executive Order 12866, we have also classified it as significant in the Agenda.

Explanation of Information on the Agenda

An Office of Management and Budget memorandum, dated February 19, 2016, requires the format for this Agenda.

First, the Agenda is divided by initiating offices. Then the Agenda is divided into five categories: (1) Prerule stage, (2) proposed rule stage, (3) final rule stage, (4) long-term actions, and (5) completed actions. For each entry, the Agenda provides the following information: (1) Its “significance”; (2) a short, descriptive title; (3) its legal basis; (4) the related regulatory citation in the Code of Federal Regulations; (5) any legal deadline and, if so, for what action (e.g., NPRM, final rule); (6) an abstract; (7) a timetable, including the earliest expected date for when a rulemaking document may publish; (8) whether the rulemaking will affect small entities and/or levels of Government and, if so, which categories; (9) whether a Regulatory Flexibility Act (RFA) analysis is required (for rules that would have a significant economic impact on a substantial number of small entities); (10) a listing of any analyses an office will prepare or has prepared for the action (with minor exceptions, DOT requires an economic analysis for all its rulemakings); (11) an agency contact office or official who can provide further information; (12) a Regulation Identifier Number (RIN) assigned to identify an individual rulemaking in the Agenda and facilitate tracing further action on the issue; (13) whether the action is subject to the Unfunded Mandates Reform Act; (14) whether the action is subject to the Energy Act; and (15) whether the action is major under the congressional review provisions of the Small Business Regulatory Enforcement Fairness Act. If there is information that does not fit in the other categories, it will be included under a separate heading entitled “Additional Information.” One such example of this is the letters “SB,” “IC,” and “SLT.” These refer to information used as part of our required reports on Retrospective Review of DOT rulemakings. A “Y” or an “N,” for yes and no, respectively, follow the letters to indicate whether or not a particular rulemaking would have effects on: Small businesses (SB); information collections (IC); or State, local, or tribal (SLT) governments.

For nonsignificant regulations issued routinely and frequently as a part of an established body of technical requirements (such as the Federal Aviation Administration's Airspace Rules), to keep those requirements operationally current, we only include the general category of the regulations, the identity of a contact office or official, and an indication of the expected number of regulations; we do not list individual regulations.

In the “Timetable” column, we use abbreviations to indicate the particular documents being considered. ANPRM stands for Advance Notice of Proposed Rulemaking, SNPRM for Supplemental Notice of Proposed Rulemaking, and NPRM for Notice of Proposed Rulemaking. Listing a future date in this column does not mean we have made a decision to issue a document; it is the earliest date on which a rulemaking document may publish. In addition, these dates are based on current schedules. Information received after the issuance of this Agenda could result in a decision not to take regulatory action or in changes to proposed publication dates. For example, the need for further evaluation could result in a later publication date; evidence of a greater need for the regulation could result in an earlier publication date.

Finally, a dot (•) preceding an entry indicates that the entry appears in the Agenda for the first time.

Request for Comments

General

Our agenda is intended primarily for the use of the public. Since its inception, we have made modifications and refinements that we believe provide the public with more helpful information, as well as making the Agenda easier to use. We would like you, the public, to make suggestions or comments on how the Agenda could be further improved.

Reviews

We also seek your suggestions on which of our existing regulations you believe need to be reviewed to determine whether they should be revised or revoked. We particularly draw your attention to the Department's review plan in appendix D. In response to Executive Order 13563 “Retrospective Review and Analysis of Existing Rules,” in 2011 we prepared a retrospective review plan providing more detail on the process we use to conduct reviews of existing rules, including changes in response to Executive Order 13563. Any updates related to our retrospective plan and review results can be found at http://www.dot.gov/regulations.

Regulatory Flexibility Act

The Department is especially interested in obtaining information on requirements that have a “significant economic impact on a substantial number of small entities” and, therefore, must be reviewed under the Regulatory Flexibility Act. If you have any suggested regulations, please submit them to us, along with your explanation of why they should be reviewed.

In accordance with the Regulatory Flexibility Act, comments are specifically invited on regulations that we have targeted for review under section 610 of the Act. The phrase (sec. 610 Review) appears at the end of the title for these reviews. Please see appendix D for the Department's section 610 review plans.

Consultation With State, Local, and Tribal Governments

Executive Orders 13132 and 13175 require us to develop an accountable process to ensure “meaningful and timely input” by State, local, and tribal officials in the development of regulatory policies that have federalism or tribal implications. These policies are defined in the Executive orders to include regulations that have “substantial direct effects” on States or Indian tribes, on the relationship between the Federal Government and them, or on the distribution of power and responsibilities between the Federal Government and various levels of Government or Indian tribes. Therefore, we encourage State and local Governments or Indian tribes to provide us with information about how the Department's rulemakings impact them.

Purpose

The Department is publishing this regulatory Agenda in the Federal Register to share with interested members of the public the Department's preliminary expectations regarding its future regulatory actions. This should enable the public to be more aware of the Department's regulatory activity and should result in more effective public participation. This publication in the Federal Register does not impose any binding obligation on the Department or any of the offices within the Department with regard to any specific item on the Agenda. Regulatory action, in addition to the items listed, is not precluded.

Dated: March 23, 2016.
Anthony R. Foxx,
Secretary of Transportation.

Appendix A—Instructions for Obtaining Copies of Regulatory Documents

To obtain a copy of a specific regulatory document in the Agenda, you should communicate directly with the contact person listed with the regulation at the address below. We note that most, if not all, such documents, including the Semiannual Regulatory Agenda, are available through the Internet at http://www.regulations.gov. See appendix C for more information.

(Name of contact person), (Name of the DOT agency), 1200 New Jersey Avenue SE., Washington, DC 20590. (For the Federal Aviation Administration, substitute the following address: Office of Rulemaking, ARM-1, 800 Independence Avenue SW., Washington, DC 20591.)

Appendix B—General Rulemaking Contact Persons

The following is a list of persons who can be contacted within the Department for general information concerning the rulemaking process within the various operating administrations.

FAA—Lirio Liu, Director, Office of Rulemaking, 800 Independence Avenue SW., Washington, DC 20591; telephone (202) 267-7833.

FHWA—Jennifer Outhouse, Office of Chief Counsel, 1200 New Jersey Avenue SE., Washington, DC 20590; telephone (202) 366-0761.

FMCSA—Steven J. LaFreniere, Regulatory Ombudsman, 1200 New Jersey Avenue SE., Washington, DC 20590; telephone (202) 366-0596.

NHTSA—Steve Wood, Office of Chief Counsel, 1200 New Jersey Avenue SE., Washington, DC 20590; telephone (202) 366-2992.

FRA—Kathryn Gresham, Office of Chief Counsel, 1200 New Jersey Avenue SE., Washington, DC 20590; telephone (202) 493-6063.

FTA—Bonnie Graves, Office of Chief Counsel, 1200 New Jersey Avenue SE., Washington, DC 20590; telephone (202) 366-0944.

SLSDC—Carrie Mann Lavigne, Chief Counsel, 180 Andrews Street, Massena, NY 13662; telephone (315) 764-3200.

PHMSA—Karin Christian, Office of Chief Counsel, 1200 New Jersey Avenue SE., Washington, DC 20590; telephone (202) 366-4400.

MARAD—Gabriel Chavez, Office of Chief Counsel, Maritime Administration, 1200 New Jersey Avenue SE., Washington, DC 20590; telephone (202) 366-5157.

OST—Jonathan Moss, Assistant General Counsel for Regulation, 1200 New Jersey Avenue SE., Washington, DC 20590; telephone (202) 366-4723.

Appendix C—Public Rulemaking Dockets

All comments via the Internet are submitted through the Federal Docket Management System (FDMS) at the following address: http://www.regulations.gov. The FDMS allows the public to search, view, download, and comment on all Federal agency rulemaking documents in one central online system. The above referenced Internet address also allows the public to sign up to receive notification when certain documents are placed in the dockets.

The public also may review regulatory dockets at or deliver comments on proposed rulemakings to the Dockets Office at 1200 New Jersey Avenue SE., Room W12-140, Washington, DC 20590, 1-800-647-5527. Working Hours: 9:00 a.m. to 5:00 p.m.

Appendix D—Review Plans for Section 610 and Other Requirements

Part I—The Plan

General

The Department of Transportation has long recognized the importance of regularly reviewing its existing regulations to determine whether they need to be revised or revoked. Our Regulatory Policies and Procedures require such reviews. We also have responsibilities under Executive Order 12866, “Regulatory Planning and Review,” and section 610 of the Regulatory Flexibility Act to conduct such reviews. This includes the use of plain language techniques in new rules and considering its use in existing rules when we have the opportunity and resources to permit its use. We are committed to continuing our reviews of existing rules and, if it is needed, will initiate rulemaking actions based on these reviews.

In accordance with Executive Order 13563, “Improving Regulation and Regulatory Review,” issued by the President on January 18, 2011, the Department has added other elements to its review plan. The Department has decided to improve its plan by adding special oversight processes within the Department, encouraging effective and timely reviews, including providing additional guidance on particular problems that warrant review, and expanding opportunities for public participation. These new actions are in addition to the other steps described in this appendix.

Section 610 Review Plan

Section 610 requires that we conduct reviews of rules that: (1) Have been published within the last 10 years, and (2) have a “significant economic impact on a substantial number of small entities” (SEIOSNOSE). It also requires that we publish in the Federal Register each year a list of any such rules that we will review during the next year. The Office of the Secretary and each of the Department's Operating Administrations have a 10-year review plan. These reviews comply with section 610 of the Regulatory Flexibility Act.

Changes to the Review Plan

Some reviews may be conducted earlier than scheduled. For example, to the extent resources permit, the plain language reviews will be conducted more quickly. Other events, such as accidents, may result in the need to conduct earlier reviews of some rules. Other factors may also result in the need to make changes; for example, we may make changes in response to public comment on this plan or in response to a presidentially mandated review. If there is any change to the review plan, we will note the change in the following Agenda. For any section 610 review, we will provide the required notice prior to the review.

Part II—The Review Process

The Analysis

Generally, the agencies have divided their rules into 10 different groups and plan to analyze one group each year. For purposes of these reviews, a year will coincide with the fall-to-fall schedule for publication of the Agenda. Thus, Year 1 (2008) begins in the fall of 2008 and ends in the fall of 2009; Year 2 (2009) begins in the fall of 2009 and ends in the fall of 2010, and so on. We request public comment on the timing of the reviews. For example, is there a reason for scheduling an analysis and review for a particular rule earlier than we have? Any comments concerning the plan or particular analyses should be submitted to the regulatory contacts listed in appendix B, General Rulemaking Contact Persons.

Section 610 Review

The agency will analyze each of the rules in a given year's group to determine whether any rule has a SEIOSNOSE and, thus, requires review in accordance with section 610 of the Regulatory Flexibility Act. The level of analysis will, of course, depend on the nature of the rule and its applicability. Publication of agencies' section 610 analyses listed each fall in this Agenda provides the public with notice and an opportunity to comment consistent with the requirements of the Regulatory Flexibility Act. We request that public comments be submitted to us early in the analysis year concerning the small entity impact of the rules to help us in making our determinations.

In each fall Agenda, the agency will publish the results of the analyses it has completed during the previous year. For rules that had a negative finding on SEIOSNOSE, we will give a short explanation (e.g., “these rules only establish petition processes that have no cost impact” or “these rules do not apply to any small entities”). For parts, subparts, or other discrete sections of rules that do have a SEIOSNOSE, we will announce that we will be conducting a formal section 610 review during the following 12 months. At this stage, we will add an entry to the Agenda in the prerulemaking section describing the review in more detail. We also will seek public comment on how best to lessen the impact of these rules and provide a name or docket to which public comments can be submitted. In some cases, the section 610 review may be part of another unrelated review of the rule. In such a case, we plan to clearly indicate which parts of the review are being conducted under section 610.

Other Reviews

The agency will also examine the specified rules to determine whether any other reasons exist for revising or revoking the rule or for rewriting the rule in plain language. In each fall Agenda, the agency will also publish information on the results of the examinations completed during the previous year.

Part III—List of Pending Section 610 Reviews

The Agenda identifies the pending DOT section 610 Reviews by inserting “(Section 610 Review)” after the title for the specific entry. For further information on the pending reviews, see the Agenda entries at www.reginfo.gov. For example, to obtain a list of all entries that are in section 610 Reviews under the Regulatory Flexibility Act, a user would select the desired responses on the search screen (by selecting “advanced search”) and, in effect, generate the desired “index” of reviews.

Office of the Secretary

Section 610 and Other Reviews

Year | Regulations to be reviewed | Analysis year | Review year
1 | 49 CFR parts 91 through 99 and 14 CFR parts 200 through 212 | 2008 | 2009
2 | 48 CFR parts 1201 through 1253 and new parts and subparts | 2009 | 2010
3 | 14 CFR parts 213 through 232 | 2010 | 2011
4 | 14 CFR parts 234 through 254 | 2011 | 2012
5 | 14 CFR parts 255 through 298 and 49 CFR part 40 | 2012 | 2013
6 | 14 CFR parts 300 through 373 | 2013 | 2014
7 | 14 CFR parts 374 through 398 | 2014 | 2015
8 | 14 CFR part 399 and 49 CFR parts 1 through 11 | 2015 | 2016
9 | 49 CFR parts 17 through 28 | 2016 | 2017
10 | 49 CFR parts 29 through 39 and parts 41 through 89 | 2017 | 2018

Year 8 (2015) List of Rules That Will Be Analyzed During the Next Year

14 CFR part 399—Fees and Charges for Special Services

49 CFR part 1—Organization and Delegation of Power and Duties

49 CFR part 3—Official Seal

49 CFR part 5—Rulemaking Procedures

49 CFR part 6—Implementation of Equal Access to Justice Act in Agency Proceedings

49 CFR part 7—Public Availability of Information

49 CFR part 8—Classified Information: Classification/Declassification/Access

49 CFR part 9—Testimony of Employees of the Department and Production of Records in Legal Proceedings

49 CFR part 10—Maintenance of and Access to Records Pertaining to Individuals

49 CFR part 11—Protection of Human Subjects

Year 7 (2014) List of Rules With Ongoing Analysis

14 CFR part 374—Implementation of the Consumer Credit Protection Act with Respect to Air Carriers and Foreign Air Carriers

14 CFR part 374a—Extension of Credit by Airlines to Federal Political Candidates

14 CFR part 375—Navigation of Foreign Civil Aircraft within the United States

14 CFR part 377—Continuance of Expired Authorizations by Operation of Law Pending Final Determination of Applications for Renewal Thereof

14 CFR part 380—Public Charters

14 CFR part 381—Special Event Tours

14 CFR part 382—Nondiscrimination on The Basis of Disability in Air Travel

14 CFR part 383—Civil Penalties

14 CFR part 385—Staff Assignments and Review of Action under Assignments

14 CFR part 389—Fees and Charges for Special Services

14 CFR part 398—Guidelines for Individual Determinations of Basic Essential Air Service

Year 6 (2013) List of Rules With Ongoing Analysis

14 CFR part 300—Rules of Conduct in DOT Proceedings Under This Chapter

14 CFR part 302—Rules of Practice in Proceedings

14 CFR part 303—Review of Air Carrier Agreements

14 CFR part 305—Rules of Practice in Informal Nonpublic Investigations

14 CFR part 313—Implementation of the Energy Policy and Conservation Act

14 CFR part 323—Terminations, Suspensions, and Reductions of Service

14 CFR part 325—Essential Air Service Procedures

14 CFR part 330—Procedures for Compensation of Air Carriers

14 CFR part 372—Overseas Military Personnel Charters

Year 5 (Fall 2012) List of Rules With Ongoing Analysis

14 CFR part 255—Airline Computer Reservations Systems

14 CFR part 256—[Reserved]

14 CFR part 271—Guidelines for Subsidizing Air Carriers Providing Essential Air Transportation

14 CFR part 272—Essential Air Service to the Freely Associated States

14 CFR part 291—Cargo Operations in Interstate Air Transportation

14 CFR part 292—International Cargo Transportation

14 CFR part 293—International Passenger Transportation

14 CFR part 294—Canadian Charter Air Taxi Operators

14 CFR part 296—Indirect Air Transportation of Property

14 CFR part 297—Foreign Air Freight Forwarders and Foreign Cooperative Shippers Associations

14 CFR part 298—Exemptions for Air Taxi and Commuter Air Carrier Operations

Year 4 (Fall 2011) List of Rules With Ongoing Analysis

14 CFR part 240—Inspection of Accounts and Property

14 CFR part 241—Uniform System of Accounts and Reports for Large Certificated Air Carriers

14 CFR part 243—Passenger Manifest Information

14 CFR part 247—Direct Airport-to-Airport Mileage Records

14 CFR part 248—Submission of Audit Reports

14 CFR part 249—Preservation of Air Carrier Records

Year 3 (Fall 2010) List of Rules With Ongoing Analysis

14 CFR part 213—Terms, Conditions, and Limitations of Foreign Air Carrier Permits

14 CFR part 214—Terms, Conditions, and Limitations of Foreign Air Carrier Permits Authorizing Charter Transportation Only

14 CFR part 215—Use and Change of Names of Air Carriers, Foreign Air Carriers, and Commuter Air Carriers

14 CFR part 216—Commingling of Blind Sector Traffic by Foreign Air Carriers

14 CFR part 217—Reporting Traffic Statistics by Foreign Air Carriers in Civilian Scheduled, Charter, and Nonscheduled Services

14 CFR part 218—Lease by Foreign Air Carrier or Other Foreign Person of Aircraft With Crew

14 CFR part 221—Tariffs

14 CFR part 222—Intermodal Cargo Services by Foreign Air Carriers

14 CFR part 223—Free and Reduced-Rate Transportation

14 CFR part 232—Transportation of Mail, Review of Orders of Postmaster General

14 CFR part 234—Airline Service Quality Performance Reports

Year 1 (Fall 2008) List of Rules With Ongoing Analysis

49 CFR part 91—International Air Transportation Fair Competitive Practices

49 CFR part 92—Recovering Debts to the United States by Salary Offset

49 CFR part 98—Enforcement of Restrictions on Post-Employment Activities

49 CFR part 99—Employee Responsibilities and Conduct

14 CFR part 200—Definitions and Instructions

14 CFR part 201—Air Carrier Authority Under Subtitle VII of Title 49 of the United States Code [Amended]

14 CFR part 203—Waiver of Warsaw Convention Liability Limits and Defenses

14 CFR part 204—Data to Support Fitness Determinations

14 CFR part 205—Aircraft Accident Liability Insurance

14 CFR part 206—Certificates of Public Convenience and Necessity: Special Authorizations and Exemptions

14 CFR part 207—Charter Trips by U.S. Scheduled Air Carriers

14 CFR part 208—Charter Trips by U.S. Charter Air Carriers

14 CFR part 211—Applications for Permits to Foreign Air Carriers

14 CFR part 212—Charter Rules for U.S. and Foreign Direct Air Carriers

Federal Aviation Administration

Section 610 Review Plan

The FAA has elected to use the two-step, two-year process used by most DOT modes in past plans. As such, the FAA has divided its rules into 10 groups as displayed in the table below. During the first year (the “analysis year”), all rules published during the previous 10 years within a 10% block of the regulations will be analyzed to identify those with a SEIOSNOSE. During the second year (the “review year”), each rule identified in the analysis year as having a SEIONOSE will be reviewed in accordance with Section 610(b) to determine if it should be continued without change or changed to minimize impact on small entities. Results of those reviews will be published in the DOT Semiannual Regulatory Agenda.

Year | Regulations to be reviewed | Analysis year | Review year
1 | 14 CFR parts 119 through 129 and parts 150 through 156 | 2008 | 2009
2 | 14 CFR parts 133 through 139 and parts 157 through 169 | 2009 | 2010
3 | 14 CFR parts 141 through 147 and parts 170 through 187 | 2010 | 2011
4 | 14 CFR parts 189 through 198 and parts 1 through 16 | 2011 | 2012
5 | 14 CFR parts 17 through 33 | 2012 | 2013
6 | 14 CFR parts 34 through 39 and parts 400 through 405 | 2013 | 2014
7 | 14 CFR parts 43 through 49 and parts 406 through 415 | 2014 | 2015
8 | 14 CFR parts 60 through 77 | 2015 | 2016
9 | 14 CFR parts 91 through 105 | 2016 | 2017
10 | 14 CFR parts 417 through 460 | 2017 | 2018

Year 9 (2016) List of Rules To Be Analyzed During the Next Year

14 CFR part 91—General Operating and Flight Rules

14 CFR part 93—Special Air Traffic Rules

14 CFR part 95—IFR Altitudes

14 CFR part 97—Standard Instrument Procedures

14 CFR part 99—Security Control of Air Traffic

14 CFR part 101—Moored Balloons, Kites, Amateur Rockets and Unmanned Free Balloons

14 CFR part 103—Ultralight Vehicles

14 CFR part 105—Parachute Operations

Year 8 (2015) List of Rules Analyzed and Summary of Results

14 CFR part 60—Flight Simulation Training Device Initial and Continuing Qualification and Use

• Section 610: The agency conducted a Section 610 review of this part and found no SEISNOSE.

• General: No changes are needed. These regulations are cost effective and impose the least burden. FAA's plain language review of these rules indicates no need for substantial revision.

14 CFR part 61—Certification: Pilots, Flight Instructors, and Ground Instructors

• Section 610: The agency conducted a Section 610 review of this part and found no SEISNOSE.

• General: No changes are needed. These regulations are cost effective and impose the least burden. FAA's plain language review of these rules indicates no need for substantial revision.

14 CFR part 63—Certification: Flight Crewmembers Other than Pilots

• Section 610: The agency conducted a Section 610 review of this part and found no SEISNOSE.

• General: No changes are needed. These regulations are cost effective and impose the least burden. FAA's plain language review of these rules indicates no need for substantial revision.

14 CFR part 65—Certification: Airmen Other than Flight Crewmembers

• Section 610: The agency conducted a Section 610 review of this part and found no SEISNOSE.

• General: No changes are needed. These regulations are cost effective and impose the least burden. FAA's plain language review of these rules indicates no need for substantial revision.

14 CFR part 67—Medical Standards and Certification

• Section 610: The agency conducted a Section 610 review of this part and found no SEISNOSE.

• General: No changes are needed. These regulations are cost effective and impose the least burden. FAA's plain language review of these rules indicates no need for substantial revision.

14 CFR part 71—Designation of Class A, B, C, D, and E Airspace Areas; Air Traffic Service Routes; and Reporting Points

• Section 610: The agency conducted a Section 610 review of this part and found no SEISNOSE.

• General: No changes are needed. These regulations are cost effective and impose the least burden. FAA's plain language review of these rules indicates no need for substantial revision.

14 CFR part 73—Special Use Airspace

• Section 610: The agency conducted a Section 610 review of this part and found no SEISNOSE.

• General: No changes are needed. These regulations are cost effective and impose the least burden. FAA's plain language review of these rules indicates no need for substantial revision.

14 CFR part 77—Safe, Efficient Use, and Preservation of the Navigable Airspace

• Section 610: The agency conducted a Section 610 review of this part and found no SEISNOSE.

• General: No changes are needed. These regulations are cost effective and impose the least burden. FAA's plain language review of these rules indicates no need for substantial revision.

Federal Highway Administration

Section 610 and Other Reviews

Year | Regulations to be reviewed | Analysis year | Review year
1 | None | 2008 | 2009
2 | 23 CFR parts 1 to 260 | 2009 | 2010
3 | 23 CFR parts 420 to 470 | 2010 | 2011
4 | 23 CFR part 500 | 2011 | 2012
5 | 23 CFR parts 620 to 637 | 2012 | 2013
6 | 23 CFR parts 645 to 669 | 2013 | 2014
7 | 23 CFR parts 710 to 924 | 2014 | 2015
8 | 23 CFR parts 940 to 973 | 2015 | 2016
9 | 23 CFR parts 1200 to 1252 | 2016 | 2017
10 | New parts and subparts | 2017 | 2018

Federal-Aid Highway Program

The Federal Highway Administration (FHWA) has adopted regulations in title 23 of the CFR, chapter I, related to the Federal-Aid Highway Program. These regulations implement and carry out the provisions of Federal law relating to the administration of Federal aid for highways. The primary law authorizing Federal aid for highway is chapter I of title 23 of the U.S.C. 145 of title 23, expressly provides for a federally assisted State program. For this reason, the regulations adopted by the FHWA in title 23 of the CFR primarily relate to the requirements that States must meet to receive Federal funds for the construction and other work related to highways. Because the regulations in title 23 primarily relate to States, which are not defined as small entities under the Regulatory Flexibility Act, the FHWA believes that its regulations in title 23 do not have a significant economic impact on a substantial number of small entities. The FHWA solicits public comment on this preliminary conclusion.

Year 7 (Fall 2014) List of Rules Analyzed and a Summary of Results

23 CFR part 710—Right-of-way and real estate

• Section 610: No SEIOSNOSE. No small entities are affected

• General: An updated rule was promulgated implementing section 1302 of MAP-21 by adding the new authorities for early acquisition of property to part 710, clarifying the Federal-aid eligibility of a broad range of real property interests that constitute less than full fee ownership, streamlining program requirements, clarifying the Federal-State partnership, and carrying out a comprehensive update of part 710.

23 CFR part 750—Highway beautification

• Section 610: No SEIOSNOSE. No small entities are affected

• General: No changes are needed. These regulations are cost effective and impose the least burden. FHWA's plain language review of these rules indicates no need for substantial revision.

23 FR part 751—Junkyard control and acquisition

• Section 610: No SEIOSNOSE. No small entities are affected

• General: No changes are needed. These regulations are cost effective and impose the least burden. FHWA's plain language review of these rules indicates no need for substantial revision.

23 CFR part 752—Landscape and roadside development

• Section 610: No SEIOSNOSE. No small entities are affected

• General: No changes are needed. These regulations are cost effective and impose the least burden. FHWA's plain language review of these rules indicates no need for substantial revision.

23 CFR part 771—Environmental impact and related procedures

• Section 610: No SEIOSNOSE. No small entities are affected

• General: An updated rule was promulgated to conform with MAP-21, and proposes additional substantive and nonsubstantive changes to streamline or clarify this part.

23 CFR part 772—Procedures for abatement of highway traffic noise and construction noise

• Section 610: No SEIOSNOSE. No small entities are affected

• General: No changes are needed. These regulations are cost effective and impose the least burden. FHWA's plain language review of these rules indicates no need for substantial revision.

23 CFR part 773—Surface Transportation Project Delivery Program application requirements and termination

• Section 610: No SEIOSNOSE. No small entities are affected

• General: No changes are needed. These regulations are cost effective and impose the least burden. FHWA's plain language review of these rules indicates no need for substantial revision.

23 CFR part 774—Parks, recreation areas, wildlife and waterfowl refuges, and historic sites (Section 4(f))

• Section 610: No SEIOSNOSE. No small entities are affected

• General: No changes are needed. These regulations are cost effective and impose the least burden. FHWA's plain language review of these rules indicates no need for substantial revision.

23 CFR part 777—Mitigation of impacts to wetlands and natural habitat

• Section 610: No SEIOSNOSE. No small entities are affected

• General: No changes are needed. These regulations are cost effective and impose the least burden. FHWA's plain language review of these rules indicates no need for substantial revision.

23 CFR part 810—Mass transit and special use highway projects

• Section 610: No SEIOSNOSE. No small entities are affected

• General: No changes are needed. These regulations are cost effective and impose the least burden. FHWA's plain language review of these rules indicates no need for substantial revision.

23 CFR part 924—Highway safety improvement program

• Section 610: No SEIOSNOSE. No small entities are affected

• General: An updated rule was promulgated to incorporate amendments made to the program by section 1112 of MAP-21 and to incorporate necessary changes to align with the safety performance management rulemaking.

Year 8 (Fall 2015) List of Rules That Will Be Analyzed During the Next Year

23 CFR part 940—Intelligent transportation system architecture and standards

23 CFR part 950—Electronic toll collection

23 CFR part 970—National Park Service Management Systems

23 CFR part 971—Forest Service management systems

23 CFR part 972—Fish and Wildlife Service management systems

23 CFR part 973—Management systems pertaining to the Bureau of Indian Affairs and the Indian Reservation Roads Program

Federal Motor Carrier Safety Administration

Section 610 and Other Reviews

Year | Regulations to be reviewed | Analysis year | Review year
1 | 49 CFR part 372, subpart A | 2008 | 2009
2 | 49 CFR part 386 | 2009 | 2010
3 | 49 CFR parts 325 and 390 (General) | 2010 | 2011
4 | 49 CFR parts 390 (Small Passenger-Carrying Vehicles), 391 to 393 and 396 to 399 | 2011 | 2012
5 | 49 CFR part 387 | 2012 | 2013
6 | 49 CFR parts 360, 365, 366, 368, 374, 377, and 378 | 2013 | 2014
7 | 49 CFR parts 356, 367, 369, 370, 371, 372 (subparts B and C) | 2014 | 2015
8 | 49 CFR parts 373, 376, and 379 | 2015 | 2016
9 | 49 CFR part 375 | 2016 | 2017
10 | 49 CFR part 395 | 2017 | 2018

Year 6 (Fall 2013) List of Rules Analyzed and a Summary of Results

49 CFR part 360—Fees for Motor Carrier Registration and Insurance

• Section 610: There is no SEISNOSE. This administrative rule allows FMCSA to collect one-time nominal registration and insurance fees for commercial motor carriers. The fees do not place any significant cost burden on small entities.

• General: FMCSA will integrate plain language techniques to the extent possible as it rewrites various rulemakings to address Safe, Accountable, Flexible, Efficient Transportation Equity Act: A Legacy for Users (SAFETEA-LU) and MAP-21 provisions that authorize the replacement of three current identification and registration systems with a single online Federal “Unified Registration System (URS).” The authority to set and collect fees is found in 31 U.S.C. 9701 and 49 U.S.C. 13908.

49 CFR part 3659—Rules Governing Applications for Operating Authority

• Section 610: There is no SEISNOSE. This administrative rule describes the operating authority application process and does not require extensive time to complete. The rule also allows commercial motor vehicle (CMV) carriers to protest a rejected application for operating authority. Because no entity is obliged to file a protest; and the filing process requires minimal time to complete, we find that the rule does not impose any significant costs upon a significant number of small entities.

• General: FMCSA will integrate plain language techniques as it rewrites these rulemakings and will integrate this part into 49 CFR part 360 consistent with the Federal “Unified Registration System.” This part is still relevant as it provides carriers with the authority to operate.

49 CFR part 366—Designation of Process Agent

• Section 610: There is no SEISNOSE. These rules require motor carriers to designate court-related process agents for every State in which they operate to enable the claimant to adjudicate a claim in the jurisdiction where the claim arises. Many small motor carriers contract with organizations which provide a nationwide blanket authority at a reasonable cost.

• General: The process-agent designation is imposed by statute: 49 U.S.C. 13303 and 13304; consequently FMCSA has no discretion regarding costs associated with this rulemaking. FMCSA will integrate plain language techniques as it rewrites these rulemakings and will integrate this part into 49 CFR part 360 consistent with the Federal “Unified Registration System.”

49 CFR part 368—Application for a Certificate of Registration to Operate in Municipalities in the United States on the United States-Mexico International Border or Within the Commercial Zones of Such Municipalities

• Section 610: There is no SEISNOSE. The issuance of “Certificates of Registration” to Mexican motor carriers of property desiring to operate in the United States commercial border zones applies only to Mexican carriers and therefore has no cost impact to U.S. small entities.

• General: This rule remains important since the North American Free Trade Agreement has not been fully implemented. The FMCSA will integrate plain language techniques as it rewrites these rulemakings and will integrate this part into 49 CFR part 360, consistent with SAFETEA-LU and the proposed Federal “Unified Registration System.”

49 CFR part 374—Discrimination in Operations of Interstate Motor Common Carriers of Passengers

• Section 610: There is no SEISNOSE. This regulation is administrative in nature and was transferred to the Department of Transportation upon the enactment of the Interstate Commerce Commission Termination Act (ICCTA) of 1995. This rule prohibits certain forms of discrimination and smoking on interstate motor carriers of passengers, ticketing requirements, and excess baggage requirements regarding commercial travel on Interstate motor carriers of passengers. These rules promote standard business practices that a prudent person should undertake in the proper management of transportation operations consistent with existing laws to include the Americans with Disabilities Act (ADA) and the Civil Rights Amendment. There are no substantial additive costs borne by small entities as a result of this rule.

• General: These regulations are cost effective and impose minimal burden. FMCSA will rewrite the regulations using plain language techniques as resources permit.

49 CFR part 377—Payment of Transportation Charges

• Section 610: There is no SEISNOSE. The rules and regulations in this part apply to the transportation by motor vehicle of collect on delivery shipments by common carriers of property subject to 49 U.S.C. 13702, and extending credit to shippers. The rules do not constrain business decisions or impose costly fees upon small entities.

• General: These rules support 49 U.S.C. 13702, and require certain carriers to publish tariffs in support of non-contiguous domestic trade. FMCSA will rewrite its regulations using plain language techniques as resources permit.

49 CFR part 378—Procedures Governing the Processing, Investigation, and Disposition of Overcharge, Duplicate Payment, or Over-collection Claims

• Section 610: There is no SEISNOSE. These rules involve standard business practices that a prudent carrier should undertake in the proper management of claim disputes even in the absence of the rules. The benefits of the rule justify their costs, and impose only a minimal cost burden on small entities.

• General: These rules support 49 U.S.C. 13301, 14101, 14704, 14705, and 13702(a), which regulate the management of claim disputes. FMCSA will rewrite the regulations using plain language techniques as resources permit.

Year 7 (Fall 2014) List of Rules With Ongoing Analysis

49 CFR part 356—Motor Carrier Routing Regulations

49 CFR part 367—Standards for Registration with States

49 CFR part 369—Reports of Motor Carriers

49 CFR part 370—Principles and Practices for the Investigation and Voluntary Disposition of Loss and Damage Claims and Processing Salvage

49 CFR part 371—Brokers of Property

49 CFR part 372 (subparts B and C)—Exemptions, Commercial Zones and Terminal Areas.

Year 8 (2015) List of Rules That Will Be Analyzed During the Next Year

49 CFR part 373 part 373—Receipts and Bills

49 CFR part 376—Lease and Interchange of Vehicles

49 CFR part 379—Preservation of Records

National Highway Traffic Safety Administration

Section 610 and Other Reviews

Year | Regulations to be reviewed | Analysis year | Review year
1 | 49 CFR parts 571.223 through 571.500, and parts 575 and 579 | 2008 | 2009
2 | 23 CFR parts 1200 through 1300 | 2009 | 2010
3 | 49 CFR parts 501 through 526 and 571.213 | 2010 | 2011
4 | 49 CFR parts 571.131, 571.217, 571.220, 571.221, and 571.222 | 2011 | 2012
5 | 49 CFR parts 571.101 through 571.110, and 571.135, 571.138, and 571.139 | 2012 | 2013
6 | 49 CFR parts 529 through 578, except parts 571 and 575 | 2013 | 2014
7 | 49 CFR parts 571.111 through 571.129 and parts 580 through 588 | 2014 | 2015
8 | 49 CFR parts 571.201 through 571.212 | 2015 | 2016
9 | 49 CFR parts 571.214 through 571.219, except 571.217 | 2016 | 2017
10 | 49 CFR parts 591 through 595 and new parts and subparts | 2017 | 2018

Year 7 (Fall 2014) List of Rules Analyzed and a Summary of the Results

49 CFR part 571.111—Rear Visibility

• Section 610: There is no SEIOSNOSE.

• General: No changes are needed. These regulations are cost effective and impose the least burden. NHTSA's plain language review of these rules indicates no need for substantial revision.

49 CFR part 571.113—Hood Latch System

• Section 610: There is no SEIOSNOSE.

• General: No changes are needed. These regulations are cost effective and impose the least burden. NHTSA's plain language review of these rules indicates no need for substantial revision.

49 CFR part 571.114—Theft Protection and Rollaway Prevention

• Section 610: There is no SEIOSNOSE.

• General: No changes are needed. These regulations are cost effective and impose the least burden. NHTSA's plain language review of these rules indicates no need for substantial revision.

49 CFR part 571.116—Motor Vehicle Brake Fluids

• Section 610: There is no SEIOSNOSE.

• General: No changes are needed. These regulations are cost effective and impose the least burden. NHTSA's plain language review of these rules indicates no need for substantial revision.

49 CFR part 571.117—Retreaded Pneumatic Tires

• Section 610: There is no SEIOSNOSE.

• General: No changes are needed. These regulations are cost effective and impose the least burden. NHTSA's plain language review of these rules indicates no need for substantial revision.

49 CFR part 571.118—Power-Operated Window, Partition, and Roof Panel Systems

• Section 610: There is no SEIOSNOSE.

• General: No changes are needed. These regulations are cost effective and impose the least burden. NHTSA's plain language review of these rules indicates no need for substantial revision.

49 CFR part 571.119—New Pneumatic Tires For Motor Vehicles with a GVWR of More Than 4,536 Kilograms (10,000 Pounds) and Motorcycles

• Section 610: There is no SEIOSNOSE.

• General: No changes are needed. These regulations are cost effective and impose the least burden. NHTSA's plain language review of these rules indicates no need for substantial revision.

49 CFR part 571.120—Tire Selection and Rims and Motor Home/Recreation Vehicle Trailer Load Carrying Capacity Information For Motor Vehicles With a GVWR of More Than 4,536 Kilograms (10,000 Pounds)

• Section 610: There is no SEIOSNOSE.

• General: No changes are needed. These regulations are cost effective and impose the least burden. NHTSA's plain language review of these rules indicates no need for substantial revision.

49 CFR part 571.121—Air Brake Systems

• Section 610: There is no SEIOSNOSE.

• General: No changes are needed. These regulations are cost effective and impose the least burden. NHTSA's plain language review of these rules indicates no need for substantial revision.

49 CFR part 571.122—Motorcycle Brake Systems

• Section 610: There is no SEIOSNOSE.

• General: No changes are needed. These regulations are cost effective and impose the least burden. NHTSA's plain language review of these rules indicates no need for substantial revision.

49 CFR part 571.122a—Motorcycle Brake Systems

• Section 610: There is no SEIOSNOSE.

• General: No changes are needed. These regulations are cost effective and impose the least burden. NHTSA's plain language review of these rules indicates no need for substantial revision.

49 CFR part 571.123—Motorcycle Controls and Displays

• Section 610: There is no SEIOSNOSE.

• General: No changes are needed. These regulations are cost effective and impose the least burden. NHTSA's plain language review of these rules indicates no need for substantial revision.

49 CFR part 571.124—Accelerator Control Systems

• Section 610: There is no SEIOSNOSE.

• General: No changes are needed. These regulations are cost effective and impose the least burden. NHTSA's plain language review of these rules indicates no need for substantial revision.

49 CFR part 571.125—Warning Devices

• Section 610: There is no SEIOSNOSE.

• General: No changes are needed. These regulations are cost effective and impose the least burden. NHTSA's plain language review of these rules indicates no need for substantial revision.

49 CFR part 571.126—Electronic Stability Control Systems

• Section 610: There is no SEIOSNOSE.

• General: No changes are needed. These regulations are cost effective and impose the least burden. NHTSA's plain language review of these rules indicates no need for substantial revision.

49 CFR part 571.129—New Non-pneumatic Tires For Passenger Cars

• Section 610: There is no SEIOSNOSE.

• General: No changes are needed. These regulations are cost effective and impose the least burden. NHTSA's plain language review of these rules indicates no need for substantial revision.

49 CFR part 580—Odometer Disclosure Requirements

• Section 610: There is no SEIOSNOSE.

• General: No changes are needed. These regulations are cost effective and impose the least burden. NHTSA's plain language review of these rules indicates no need for substantial revision.

49 CFR part 581—Bumper Standard

• Section 610: There is no SEIOSNOSE.

• General: No changes are needed. These regulations are cost effective and impose the least burden. NHTSA's plain language review of these rules indicates no need for substantial revision.

49 CFR part 582—Insurance Cost Information Regulation

• Section 610: There is no SEIOSNOSE.

• General: No changes are needed. These regulations are cost effective and impose the least burden. NHTSA's plain language review of these rules indicates no need for substantial revision.

49 CFR part 583—Automobile Parts Content Labeling

• Section 610: There is no SEIOSNOSE.

• General: No changes are needed. These regulations are cost effective and impose the least burden. NHTSA's plain language review of these rules indicates no need for substantial revision.

49 CFR part 585—Phase-In Reporting Requirements

• Section 610: There is no SEIOSNOSE.

• General: No changes are needed. These regulations are cost effective and impose the least burden. NHTSA's plain language review of these rules indicates no need for substantial revision.

49 CFR part 587—Deformable Barriers

• Section 610: There is no SEIOSNOSE.

• General: No changes are needed. These regulations are cost effective and impose the least burden. NHTSA's plain language review of these rules indicates no need for substantial revision.

49 CFR part 588—Child Restraint Systems Recordkeeping Requirements

• Section 610: There is no SEIOSNOSE.

• General: No changes are needed. These regulations are cost effective and impose the least burden. NHTSA's plain language review of these rules indicates no need for substantial revision.

Year 8 (Fall 2015) List of Rules That Will Be Analyzed During the Next Year

49 CFR part 571.201—Occupant Protection in Interior Impact

49 CFR part 571.202—Head Restraints; Applicable at the Manufacturers Option Until September 1, 2009

49 CFR part 571.202a—Head Restraints; Mandatory Applicability Begins On September 1, 2009

49 CFR part 571.203—Impact Protection For the Driver From the Steering Control System

49 CFR part 571.204—Steering Control Rearward Displacement.

49 CFR part 571.205—Glazing Materials

49 CFR part 571.205a—Glazing Equipment Manufactured Before September 1, 2006 and Glazing Materials Used In Vehicles Manufactured Before November 1, 2006

49 CFR part 571.206—Door Locks and Door Retention Components

49 CFR part 571.207—Seating Systems

49 CFR part 571.208—Occupant Crash Protection

49 CFR part 571.209—Seat Belt Assemblies

49 CFR part 571.210—Seat Belt Assembly Anchorages

49 CFR part 571.211—[Reserved]

49 CFR part 571.212—Windshield Mounting

Federal Railroad Administration

Section 610 and Other Reviews

Year | Regulations to be reviewed | Analysis year | Review year
1 | 49 CFR parts 200 and 201 | 2008 | 2009
2 | 49 CFR parts 207, 209, 211, 215, 238, and 256 | 2009 | 2010
3 | 49 CFR parts 210, 212, 214, 217, and 268 | 2010 | 2011
4 | 49 CFR part 219 | 2011 | 2012
5 | 49 CFR parts 218, 221, 241, and 244 | 2012 | 2013
6 | 49 CFR parts 216, 228, and 229 | 2013 | 2014
7 | 49 CFR parts 223 and 233 | 2014 | 2015
8 | 49 CFR parts 224, 225, 231, and 234 | 2015 | 2016
9 | 49 CFR parts 222, 227, 235, 236, 250, 260, and 266 | 2016 | 2017
10 | 49 CFR parts 213, 220, 230, 232, 239, 240, and 265 | 2017 | 2018

Year 7 (Fall 2014) List of Rules Analyzed and a Summary of Results

49 CFR part 223—Safety Glazing Standards—Locomotives, Passenger Cars and Cabooses

• Section 610: There is no SEIOSNOSE.

• General: The rule provides minimum requirements for glazing materials, and is necessary to protect railroad employees and railroad passengers from injury as a result of objects striking the windows of locomotives, passenger cars and cabooses. Recent amendments with regard to the clarification existing regulations related to the use of glazing materials in the windows of locomotives, passenger cars, and cabooses are expected to reduce paperwork and other economic burdens on the rail industry by removing a stenciling requirement for locomotives, passenger cars, and cabooses. FRA's plain language review of this rule indicates no need for substantial revision.

49 CFR part 233—Signal Systems Reporting Requirements

• Section 610: There is no SEIOSNOSE.

• General: FRA proposed to eliminate the five-year reporting requirement in a notice of proposed rulemaking (NPRM) that was published on June 19, 2013. The final rule eliminated the regulatory requirement that each railroad file a Signal Systems Five-Year Report with FRA which became effective on September 2, 2014. This would reduce paperwork burdens, and protect public health, welfare, safety and environment. FRA's plain language review of this rule indicates no need for substantial revision.

Year 8 (Fall 2015) List of Rule(s) That Will Be Analyzed During Next Year

49 CFR part 224—Reflectorization of Rail Freight Rolling Stock

49 CFR part 225—Railroad Accidents/Incidents: Reports Classification and Investigations

49 CFR part 231—Railroad Safety Appliance Standards

49 CFR part 234—Grade Crossing Safety, Including Signal Systems, State Action Plans, and Emergency Notification Systems

Federal Transit Administration

Section 610 and Other Reviews

Year | Regulations to be reviewed | Analysis year | Review year
1 | 49 CFR parts 604, 605, and 633 | 2008 | 2009
2 | 49 CFR parts 661 and 665 | 2009 | 2010
3 | 49 CFR part 633 | 2010 | 2011
4 | 49 CFR parts 609 and 611 | 2011 | 2012
5 | 49 CFR parts 613 and 614 | 2012 | 2013
6 | 49 CFR part 622 | 2013 | 2014
7 | 49 CFR part 630 | 2014 | 2015
8 | 49 CFR part 639 | 2015 | 2016
9 | 49 CFR parts 659 and 663 | 2016 | 2017
10 | 49 CFR part 665 | 2017 | 2018

Year 7 (Fall 2014) List of Rules Analyzed and Summary of Results

49 CFR part 630—National Transit Database

• Section 610: The agency has determined that the rule continues to not have a significant effect on a substantial number of small entities. FTA is proposing to amend the rule to align with the statutory requirement to report performance measures and targets for the National Transit Asset Management System as required under 49 U.S.C. 5326(c)(3). Currently, the NTD reporting requirements are limited, in some instances, to recipients and sub-recipients of section 5307 urban formula funds and 5311 rural formula funds. The proposed reporting requirements would apply to all recipients and sub-recipients of Chapter 53 funds that own, operate, or manage capital assets used in the provision of public transportation. However, FTA is not proposing to apply all existing NTD reporting requirements to all recipients of chapter 53 funds. FTA has evaluated the likely effects of the proposed rule on small entities and is requesting public comment during the rulemaking process. FTA has determined that the proposed revisions will not have a significant economic impact on a substantial number of small entities.

• General: The rule was promulgated to prescribe requirements and procedures for compliance with Federal data reporting requirements dictated by statute. Recently, Congress included additional reporting requirements for the management of transit asset when it enacted the Moving Ahead for Progress in the 21st Century Act (MAP-21), Public Law 112-141, (2012). FTA is promulgating a notice of proposed rulemaking to implement specific reporting requirements of the National Asset Management System in accordance with 49 U.S.C. 5326. The proposal includes revising 49 CFR part 630 to apply to all recipients of Federal public transit funds instead of being limited to just recipients of Federal funds under 49 U.S.C. 5307 and 5311. However, the proposed rule will not extend all current reporting requirements to all recipients. This proposal will revise the regulation to be consistent with current statutory requirements.

Year 8 (Fall 2015)—List of Rule(s) That Will Be Analyzed This Year

49 CFR part 639—Capital Leases

Maritime Administration

Section 610 and Other Reviews

Year | Regulations to be reviewed | Analysis year | Review year
1 | 46 CFR parts 201 through 205 | 2008 | 2009
2 | 46 CFR parts 221 through 232 | 2009 | 2010
3 | 46 CFR parts 249 through 296 | 2010 | 2011
4 | 46 CFR parts 221, 298, 308, and 309 | 2011 | 2012
5 | 46 CFR parts 307 through 309 | 2012 | 2013
6 | 46 CFR part 310 | 2013 | 2014
7 | 46 CFR parts 315 through 340 | 2014 | 2015
8 | 46 CFR parts 345 through 381 | 2015 | 2016
9 | 46 CFR parts 382 through 389 | 2016 | 2017
10 | 46 CFR parts 390 through 393 | 2017 | 2018

Year 6 (2013) List of Rules With Ongoing Analysis

46 CFR part 310—Merchant Marine Training

Year 7 (2014) List of Rules With Ongoing Analysis

46 CFR part 315—Agency Agreements and Appointment of Agents

46 CFR part 317—Bonding of Ship's Personnel

46 CFR part 324—Procedural Rules for Financial Transactions Under Agency Agreements

46 CFR part 325—Procedure to be Followed by General Agents in Preparation of Invoices and Payment of Compensation Pursuant to Provisions of NSA Order No. 47

46 CFR part 326—Marine Protection and Indemnity Insurance Under Agreements with Agents

46 CFR part 327—Seamen's Claims; Administrative Action and Litigation

46 CFR part 328—Slop Chests

46 CFR part 329—Voyage Data

46 CFR part 330—Launch Services

46 CFR part 332—Repatriation of Seaman

46 CFR part 335—Authority and Responsibility of General Agents to Undertake Emergency Repairs in Foreign Ports

46 CFR part 336—Authority and Responsibility of General Agents to Undertake in Continental United States Ports Voyage Repairs and Service Equipment of Vessels Operated for the Account of the National Shipping Authority Under General Agency Agreement

46 CFR part 337—General Agent's responsibility in Connection with Foreign Repair Custom's Entries

46 CFR part 338—Procedure for Accomplishment of Vessel Repairs Under National Shipping Authority Master Lump Sum Repair Contract—NSA—Lumpsumrep

46 CFR part 339—Procedure for Accomplishment of Ship Repairs Under National Shipping Authority Individual Contract for Minor Repairs—NSA—Worksmalrep

46 CFR part 340—Priority Use and Allocation of Shipping Services, Container and Chassis and Port Facilities and Services for National Security and National Defense Related Operations.

Year 8 (2015) List of Rules With Ongoing Analysis

46 CFR part 345—Restrictions upon the transfer or change in use or in terms governing utilization of port facilities

46 CFR part 346—Federal port controllers

46 CFR part 356—Requirements for vessels over 100 feet or greater in registered length to obtain a fishery endorsement to the vessel's documentation

46 CFR part 370—Claims

46 CFR part 381—Cargo preference—U.S.-flag vessels

Year 9 (2016) List of Rules That Will Be Analyzed During the Next Year

46 CFR part 382—Determination of fair and reasonable rates for the carriage of bulk and packaged preference cargoes on U.S.-flag commercial vessels

46 CFR part 385—Research and development grant and cooperative agreements regulations

46 CFR part 386—Regulations governing public buildings and grounds at the United States Merchant Marine Academy

46 CFR part 387—Utilization and disposal of surplus Federal real property for development or operation of a port facility

46 CFR part 388—Administrative waivers of the Coastwise Trade Laws

46 CFR part 389—Determination of availability of coast-wise-qualified vessels for transportation of platform jackets

Pipeline and Hazardous Materials Safety Administration (PHMSA)

Section 610 and Other Reviews

Year | Regulations to be reviewed | Analysis year | Review year
1 | 49 CFR part 178 | 2008 | 2009
2 | 49 CFR parts 178 through 180 | 2009 | 2010
3 | 49 CFR parts 172 and 175 | 2010 | 2011
4 | 49 CFR part 171, sections 171.15 and 171.16 | 2011 | 2012
5 | 49 CFR parts 106, 107, 171, 190, and 195 | 2012 | 2013
6 | 49 CFR parts 174, 177, 191, and 192 | 2013 | 2014
7 | 49 CFR parts 176 and 199 | 2014 | 2015
8 | 49 CFR parts 172 and 178 | 2015 | 2016
9 | 49 CFR parts 172, 173, 174, 176, 177, and 193 | 2016 | 2017
10 | 49 CFR parts 173 and 194 | 2017 | 2018

Year 7 (Fall 2015) List of Rules Analyzed and a Summary of Results

49 CFR part 176—Carriage by Vessel

• Section 610: There is no SEIOSNOSE. This rule prescribes minimum safety standards for the transportation of hazardous materials by vessel. Some small entities may be affected, but the economic impact on small entities will not be significant.

• General: The requirements in this rule are necessary to protect workers and the general public from the dangers associated with incidents involving hazardous materials transported by vessel. These provisions closely align with international standards for the safe transportation of dangerous goods. PHMSA works in consultation with the United States Coast Guard to promote a harmonized international framework for the vessel transport of hazardous materials through participation in relevant international standards setting bodies including the International Maritime Organization's Sub-Committee on Carriage of Cargoes and Containers and strives to harmonize domestic regulations with that framework wherever such harmonization provides an acceptable level of safety and is in the public interest. PHMSA's plain language review of this rule indicates no need for substantial revision.

49 CFR part 199—Drug and Alcohol Testing

• Section 610: There is no SEIOSNOSE. Based on regulated entities, PHMSA found that the majority of operators are not small businesses. Therefore, though some small entities may be affected, the economic impact on small entities will not be significant.

• General: No changes are needed. These regulations are cost effective and impose the least burden. PHMSA's plain language review of this rule indicates no need for substantial revision.

Year 8 (Fall 2016) List of Rules That Will Be Analyzed During the Next Year

49 CFR part 172—Hazardous Materials Table, Special Provisions, Hazardous Materials Communications, Emergency Response Information, Training Requirements, and Security Plans

49 CFR part 178—Specifications for Packagings

Saint Lawrence Seaway Development Corporation

Section 610 and Other Reviews

Year | Regulations to be reviewed | Analysis year | Review year
1 | 33 CFR parts 401 through 403 | 2008 | 2009

Year 1 (Fall 2008) List of Rules With Ongoing Analysis

33 CFR part 401—Seaway Regulations and Rules

33 CFR part 402—Tariff of Tolls

33 CFR part 403—Rules of Procedure of the Joint Tolls Review Board

Office of the Secretary—Final Rule Stage
Sequence No. | Title | Regulation Identifier No.
195 | + Airline Pricing Transparency and Other Consumer Protection Issues | 2105-AE11
+ DOT-designated significant regulation.

Federal Aviation Administration—Prerule Stage
Sequence No. | Title | Regulation Identifier No.
196 | + Applying the Flight, Duty, and Rest Rules to Tail-End Ferry Operations & FAA Reauthorization | 2120-AK26
+ DOT-designated significant regulation.

Federal Aviation Administration—Proposed Rule Stage
Sequence No. | Title | Regulation Identifier No.
197 | + Airport Safety Management System | 2120-AJ38
198 | + Applying the Flight, Duty, and Rest Requirements to Ferry Flights that Follow Domestic, Flag, or Supplemental All-Cargo Operations (Reauthorization) | 2120-AK22
199 | + Pilot Records Database (HR 500) | 2120-AK31
200 | + Revision of Airworthiness Standards for Normal, Utility, Acrobatic, and Commuter (RRR) | 2120-AK65
201 | + Operations of Small Unmanned Aircraft Over People | 2120-AK85
+ DOT-designated significant regulation.

Federal Aviation Administration—Final Rule Stage
Sequence No. | Title | Regulation Identifier No.
202 | + Operation and Certification of Small Unmanned Aircraft Systems | 2120-AJ60
203 | Changing the Collective Risk Limits for Launches and Reentries and Clarifying the Risk Limit Used to Establish Hazard Areas for Ships and Aircraft | 2120-AK06
204 | Acceptance Criteria for Portable Oxygen Concentrators Used Onboard Aircraft (RRR) | 2120-AK32
205 | Reciprocal Waivers of Claims for Licensed or Permitted Launch and Reentry Activities (RRR) | 2120-AK44
206 | + Registration and Marking Requirements for Small Unmanned Aircraft | 2120-AK82
+ DOT-designated significant regulation.

Federal Aviation Administration—Long-Term Actions
Sequence No. | Title | Regulation Identifier No.
207 | + Drug and Alcohol Testing of Certain Maintenance Provider Employees Located Outside of the United States | 2120-AK09
+ DOT-designated significant regulation.

Federal Aviation Administration—Completed Actions
Sequence No. | Title | Regulation Identifier No.
208 | Flight Simulation Training Device Qualification Standards for Extended Envelope and Adverse Weather Event Training (International Cooperation) | 2120-AK08

Federal Motor Carrier Safety Administration—Final Rule Stage
Sequence No. | Title | Regulation Identifier No.
209 | + Commercial Drivers' License Drug and Alcohol Clearinghouse (MAP-21) | 2126-AB18
+ DOT-designated significant regulation.

Federal Motor Carrier Safety Administration—Long-Term Actions
Sequence No. | Title | Regulation Identifier No.
210 | + Carrier Safety Fitness Determination | 2126-AB11
211 | + Entry-Level Driver Training (Section 610 Review) | 2126-AB66
+ DOT-designated significant regulation.

Federal Motor Carrier Safety Administration—Completed Actions
Sequence No. | Title | Regulation Identifier No.
212 | + Electronic Logging Devices and Hours of Service Supporting Documents (MAP-21) (RRR) | 2126-AB20
+ DOT-designated significant regulation.

Federal Railroad Administration—Proposed Rule Stage
Sequence No. | Title | Regulation Identifier No.
213 | + Passenger Equipment Safety Standards Amendments (RRR) | 2130-AC46
+ DOT-designated significant regulation.

Federal Railroad Administration—Final Rule Stage
Sequence No. | Title | Regulation Identifier No.
214 | + Train Crew Staffing and Location | 2130-AC48
+ DOT-designated significant regulation.

Saint Lawrence Seaway Development Corporation—Completed Actions
Sequence No. | Title | Regulation Identifier No.
215 | Tariff of Tolls (Rulemaking Resulting From a Section 610 Review) | 2135-AA38
216 | Seaway Regulations and Rules: Periodic Update, Various Categories (Rulemaking Resulting From a Section 610 Review) | 2135-AA39

Pipeline and Hazardous Materials Safety Administration—Proposed Rule Stage
Sequence No. | Title | Regulation Identifier No.
217 | + Pipeline Safety: Amendments to Parts 192 and 195 to Require Valve installation and Minimum Rupture Detection Standards | 2137-AF06
218 | + Hazardous Materials: Oil Spill Response Plans and Information Sharing for High-Hazard Flammable Trains | 2137-AF08
+ DOT-designated significant regulation.

Pipeline and Hazardous Materials Safety Administration—Final Rule Stage
Sequence No. | Title | Regulation Identifier No.
219 | + Pipeline Safety: Safety of Hazardous Liquid Pipelines | 2137-AE66
220 | Pipeline Safety: Issues related to the use of Plastic Pipe in Gas Pipeline Industry (RRR) | 2137-AE93
221 | Pipeline Safety: Operator Qualification, Cost Recovery, Accident and Incident Notification, and Other Changes (RRR) | 2137-AE94
+ DOT-designated significant regulation.

Maritime Administration—Proposed Rule Stage
Sequence No. | Title | Regulation Identifier No.
222 | + Cargo Preference | 2133-AB74
+ DOT-designated significant regulation.

DEPARTMENT OF TRANSPORTATION (DOT)

Office of the Secretary (OST)

Final Rule Stage

195. +Airline Pricing Transparency and Other Consumer Protection Issues

Legal Authority: 49 U.S.C. 41712; 49 U.S.C. 40101; 49 U.S.C. 41702

Abstract: This rulemaking would address a number of proposals to enhance protections for air travelers and to improve the air travel environment. This rulemaking would explore whether to codify in regulation a definition of the term “ticket agent,” to require airlines and ticket agents to disclose at all points of sale the fees for certain basic ancillary services associated with the air transportation consumers are buying or considering buying. The rulemaking would also consider whether to enhance airline passenger protections such as: Expanding the pool of “reporting” carriers; requiring enhanced reporting by mainline carriers for their domestic code-share partner operations; requiring large travel agents to adopt minimum customer service standards; codifying the statutory requirement that carriers and ticket agents disclose any code-share arrangements on their Web sites; and prohibiting unfair and deceptive practices such as undisclosed biasing and post-purchase price increases. The rulemaking would also consider whether to require ticket agents to disclose the carriers whose tickets they sell in order to avoid having consumers mistakenly believe they are searching all possible flight options for a particular city-pair market when in fact there may be other options available. Additionally, the rulemaking would correct drafting errors and make minor changes to the Department's second Enhancing Airline Passenger Protections rule to conform to guidance issued by the Department's Office of Aviation Enforcement and Proceedings (Enforcement Office) regarding its interpretation of the rule.

Timetable:

Action | Date | FR Cite
NPRM | 05/23/14 | 79 FR 29970
NPRM Comment Period Extended | 08/06/14 | 79 FR 45731
NPRM Comment Period End | 08/21/14
NPRM Comment Period Extended End | 09/22/14
NPRM Comment Period Reopened | 09/25/14 | 79 FR 57489
NPRM Comment Period Reopened End | 09/29/14
Final Rule | 10/00/16

Regulatory Flexibility Analysis Required: Yes.

Agency Contact: Blane A. Workie, Principal Deputy Assistant General Counsel, Department of Transportation, Office of the Secretary, 1200 New Jersey Avenue SE., Washington, DC 20590, Phone: 202-366-9342, TDD Phone: 202-755-7687, Fax: 202-366-7152, Email: blane.workie@dot.gov.

RIN: 2105-AE11

BILLING CODE 4910-9X-P

DEPARTMENT OF TRANSPORTATION (DOT)

Federal Aviation Administration (FAA)

Prerule Stage

196. +Applying the Flight, Duty, and Rest Rules to Tail-End Ferry Operations & FAA Reauthorization

Legal Authority: 49 U.S.C. 106(g); 49 U.S.C. 1153; 49 U.S.C. 40101; 49 U.S.C. 40102; 49 U.S.C. 40103; 49 U.S.C. 40113; 49 U.S.C. 41706; 49 U.S.C. 44105; 49 U.S.C. 44106; 49 U.S.C. 44111; 49 U.S.C. 44701 to 44717; 49 U.S.C. 44722; 49 U.S.C. 44901; 49 U.S.C. 44903; 49 U.S.C. 44904; 49 U.S.C. 44906; 49 U.S.C. 44912; 49 U.S.C. 44914; 49 U.S.C. 44936; 49 U.S.C. 44938; 49 U.S.C. 45101 to 45105; 49 U.S.C. 46103

Abstract: This rulemaking would require a flightcrew member who is employed by an air carrier conducting operations under part 135, and who accepts an additional assignment for flying under part 91 from the air carrier or from any other air carrier conducting operations under part 121 or 135, to apply the period of the additional assignment toward any limitation applicable to the flightcrew member relating to duty periods or flight times under part 135.

Timetable:

Action | Date | FR Cite
ANPRM | 09/00/16

Regulatory Flexibility Analysis Required: Yes.

Agency Contact: Dale Roberts, Department of Transportation, Federal Aviation Administration, 800 Independence Avenue SW., Washington, DC 20591, Phone: 202 267-5749, Email: dale.roberts@faa.gov.

RIN: 2120-AK26

DEPARTMENT OF TRANSPORTATION (DOT)

Federal Aviation Administration (FAA)

Proposed Rule Stage

197. +Airport Safety Management System

Legal Authority: 49 U.S.C. 44706; 49 U.S.C. 106(g); 49 U.S.C. 40113; 49 U.S.C. 44701 to 44706; 49 U.S.C. 44709; 49 U.S.C. 44719

Abstract: This rulemaking would require certain airport certificate holders to develop, implement, maintain, and adhere to a safety management system (SMS) for its aviation related activities. An SMS is a formalized approach to managing safety by developing an organization-wide safety policy, developing formal methods of identifying hazards, analyzing and mitigating risk, developing methods for ensuring continuous safety improvement, and creating organization-wide safety promotion strategies.

Timetable:

Action | Date | FR Cite
NPRM | 10/07/10 | 75 FR 62008
NPRM Comment Period Extended | 12/10/10 | 75 FR 76928
NPRM Comment Period End | 01/05/11
End of Extended Comment Period | 03/07/11
Second Extension of Comment Period | 03/07/11 | 76 FR 12300
End of Second Extended Comment Period | 07/05/11
Second NPRM | 06/00/16

Regulatory Flexibility Analysis Required: Yes.

Agency Contact: Keri Lyons, Department of Transportation, Federal Aviation Administration, 800 Independence Avenue SW., Washington, DC 20591, Phone: 202 267-8972, Email: keri.lyons@faa.gov.

RIN: 2120-AJ38

198. +Applying the Flight, Duty, and Rest Requirements to Ferry Flights That Follow Domestic, Flag, or Supplemental All-Cargo Operations (Reauthorization)

Legal Authority: 49 U.S.C. 106(g); 49 U.S.C. 40113; 49 U.S.C. 40119; 49 U.S.C. 41706; 49 U.S.C. 44101; 49 U.S.C. 44701; 49 U.S.C. 44702; 49 U.S.C. 44705; 49 U.S.C. 44709 to 44711; 49 U.S.C. 44713; 49 U.S.C. 44716; 49 U.S.C. 44717

Abstract: This rulemaking would require a flightcrew member who accepts an additional assignment for flying under part 91 from the air carrier or from any other air carrier conducting operations under part 121 or 135 of such title, to apply the period of the additional assignment toward any limitation applicable to the flightcrew member relating to duty periods or flight times. This rule is necessary as it will make part 121 flight, duty, and rest limits applicable to tail-end ferries that follow an all-cargo flight.

Timetable:

Action | Date | FR Cite
NPRM | 09/00/16

Regulatory Flexibility Analysis Required: Yes.

Agency Contact: Dale Roberts, Department of Transportation, Federal Aviation Administration, 800 Independence Avenue SW., Washington, DC 20591, Phone: 202 267-5749, Email: dale.roberts@faa.gov.

RIN: 2120-AK22

199. +Pilot Records Database (HR 500)

Legal Authority: 49 U.S.C. 106(g); 49 U.S.C. 1155; 49 U.S.C. 40103; 49 U.S.C. 40113; 49 U.S.C. 40119; 49 U.S.C. 40120; 49 U.S.C. 41706; 49 U.S.C. 44101; 49 U.S.C. 44111; 49 U.S.C. 44701 to 44705; 49 U.S.C. 44709 to 44713; 49 U.S.C. 44715 to 44717; 49 U.S.C. 44722; 49 U.S.C. 45101 to 45105; 49 U.S.C. 46105; 49 U.S.C. 46306; 49 U.S.C. 46315; 49 U.S.C. 46316; 49 U.S.C. 46504; 49 U.S.C. 46507; 49 U.S.C. 47122; 49 U.S.C. 47508; 49 U.S.C. 47528 to 47531

Abstract: This rulemaking would implement a Pilot Records Database as required by Public Law 111-216 (Aug. 1, 2010). Section 203 amends the Pilot Records Improvement Act by requiring the FAA to create a pilot records database that contains various types of pilot records. These records would be provided by the FAA, air carriers, and other persons who employ pilots. The FAA must maintain these records until it receives notice that a pilot is deceased. Air carriers would use this database to perform a record check on a pilot prior to making a hiring decision.

Timetable:

Action | Date | FR Cite
NPRM | 03/00/17

Regulatory Flexibility Analysis Required: Yes.

Agency Contact: Bradley Palmer, Department of Transportation, Federal Aviation Administration, 800 Independence Avenue SW., Washington, DC 20591, Phone: 202 267-7739, Email: bradley.palmer@faa.gov.

RIN: 2120-AK31

200. +Revision of Airworthiness Standards for Normal, Utility, Acrobatic, and Commuter (RRR)

Legal Authority: 49 U.S.C. 106(g); 49 U.S.C. 40113; 49 U.S.C. 44701; 49 U.S.C. 44702; 49 U.S.C. 44704

Abstract: This rulemaking would revise title 14, Code of Federal Regulations (14 CFR) part 23 as a set of performance based regulations for the design and certification of small transport category aircraft. This rulemaking would: (1) Reorganize part 23 into performance-based requirements by removing the detailed design requirements from part 23. The detailed design provisions that would assist applicants in complying with the new performance-based requirements would be identified in means of compliance (MOC) documents to support this effort; (2) promote the adoption of the newly created performance-based airworthiness design standard as an internationally accepted standard by the majority of other civil aviation authorities; (3) re-align the part 23 requirements to promote the development of entry-level airplanes similar to those certified under Certification Specification for Very Light Aircraft (CS-VLA); (4) enhance the FAA's ability to address new technology; (5) increase the general aviation (GA) level of safety provided by new and modified airplanes; (6) amend the stall, stall warning, and spin requirements to reduce fatal accidents and increase crashworthiness by allowing new methods for occupant protection; and (7) address icing conditions that are currently not included in part 23 regulations.

Timetable:

Action | Date | FR Cite
NPRM | 03/14/16 | 81 FR 13452
NPRM Comment Period End | 05/13/16

Regulatory Flexibility Analysis Required: Yes.

Agency Contact: Lowell Foster, Department of Transportation, Federal Aviation Administration, 901 Locust St., Kansas City, MO 64106, Phone: 816-329-4125, Email: lowell.foster@faa.gov.

RIN: 2120-AK65

201. • +Operations of Small Unmanned Aircraft Over People

Legal Authority: 49 U.S.C. 106(f); 49 U.S.C. 40101; 49 U.S.C. 40103; 49 U.S.C. 44701; Pub. L. 112-95, sec 333; . . .

Abstract: This rulemaking would address the performance-based standards and means-of-compliance for operation of small unmanned aircraft systems (UAS) over people not directly participating in the operation or not under a covered structure or inside a stationary vehicle that can provide reasonable protection from a falling small unmanned aircraft. This rulemaking would provide relief from certain operational restrictions implemented in the Operation and Certification of Small Unmanned Aircraft Systems final rule (hereinafter the sUAS Operation and Certification rule).

Timetable:

Action | Date | FR Cite
NPRM | 12/00/16

Regulatory Flexibility Analysis Required: Yes.

Agency Contact: Guido Hassig, Department of Transportation, Federal Aviation Administration, 1 Airport Way, Rochester, NY 14624, Phone: 585 436-3880, Email: guido.hassig@faa.gov.

RIN: 2120-AK85

DEPARTMENT OF TRANSPORTATION (DOT)

Federal Aviation Administration (FAA)

Final Rule Stage

202. +Operation and Certification of Small Unmanned Aircraft Systems

Legal Authority: 49 U.S.C. 44701; Pub. L. 112-95

Abstract: This rulemaking would allow the commercial operation of small unmanned aircraft systems (sUAS) in the National Airspace System (NAS). These changes would address the operation of small unmanned aircraft systems, certification of their operators, registration of the small unmanned aircraft, and display of registration markings. This action would also find airworthiness certification is not required for small unmanned aircraft system operations subject to this rulemaking.

Timetable:

Action | Date | FR Cite
NPRM | 02/23/15 | 80 FR 9544
NPRM Comment Period End | 04/24/15
Final Rule | 07/00/16

Regulatory Flexibility Analysis Required: Yes.

Agency Contact: Lance Nuckolls, Unmanned Aircraft Systems Integration Office, Department of Transportation, Federal Aviation Administration, 490 L'Enfant Plaza SW., Washington, DC 20024, Phone: 202-267-8447, Email: UAS-rule@faa.gov.

RIN: 2120-AJ60

203. Changing the Collective Risk Limits for Launches and Reentries and Clarifying the Risk Limit Used To Establish Hazard Areas for Ships and Aircraft

Legal Authority: 51 U.S.C. 50901 to 50923

Abstract: This rulemaking would revise the requirements, (1) establish quantitative public risk acceptability criteria that treat launch and reentry separately, (2) define the scope of launch and reentry mission for the purposes of quantitative risk analyses (QRA), and (3) apply QRA requirements, including uncertainty analysis, equally to all types of launch and reentry vehicles. These revisions update the current regulations and are consistent with current practices at the Federal ranges.

Timetable:

Action | Date | FR Cite
NPRM | 07/21/14 | 79 FR 42241
NPRM Comment Period End | 10/20/14
Analyzing comments | 06/00/16

Regulatory Flexibility Analysis Required: Yes.

Agency Contact: Rene Rey, Licensing and Safety Division, Office of Commercial Space, Department of Transportation, Federal Aviation Administration, 800 Independence Avenue SW., Washington, DC 20590, Phone: 202 267-7538, Email: rene.rey@faa.gov.

RIN: 2120-AK06

204. Acceptance Criteria for Portable Oxygen Concentrators Used Onboard Aircraft (RRR)

Legal Authority: 49 U.S.C. 106(f); 49 U.S.C. 106(g); 49 U.S.C. 1155; 49 U.S.C. 40103; 49 U.S.C. 40105; 49 U.S.C. 40109; 49 U.S.C. 40113; 49 U.S.C. 40119; 49 U.S.C. 40120; 49 U.S.C. 41706; 49 U.S.C. 44101; 49 U.S.C. 44110; 49 U.S.C. 44111; 49 U.S.C. 44502; 49 U.S.C. 44701; 49 U.S.C. 44702; 49 U.S.C. 44704; 49 U.S.C. 44705; 49 U.S.C. 44709 to 44713; 49 U.S.C. 44715 to 44717; 49 U.S.C. 44722; 49 U.S.C. 45101 to 45105; 49 U.S.C. 46102; 49 U.S.C. 46105; 49 U.S.C. 46306; 49 U.S.C. 46315; 49 U.S.C. 46316; 49 U.S.C. 46504; 49 U.S.C. 46506; 49 U.S.C. 46507; 49 U.S.C. 47122; 49 U.S.C. 47508; 49 U.S.C. 47528 to 47531; 61 Stat. 1180—Articles 12 and 29

Abstract: This rulemaking would replace the existing process by which the Federal Aviation Administration (FAA) approves portable oxygen concentrators (POC) for use on board aircraft in air carrier operations, commercial operations, and certain other operations using large aircraft. This rulemaking would also replace the current process and allow passengers to use a POC on board an aircraft if the POC satisfies certain acceptance criteria and bears a label indicating conformance with the acceptance criteria. Additionally, this rulemaking would eliminate redundant operational requirements and paperwork requirements related to the physician's statement. As a result, this rulemaking would reduce burdens for POC manufacturers, passengers who use POCs while traveling, and affected aircraft operators.

Timetable:

Action | Date | FR Cite
NPRM | 09/19/14 | 79 FR 56288
NPRM Comment Period End | 11/18/14
Final Rule | 05/00/16

Regulatory Flexibility Analysis Required: Yes.

Agency Contact: Denise K. Deaderick, Air Transportation Division, Department of Transportation, Federal Aviation Administration, 800 Independence Avenue SW., Washington, DC 20591, Phone: 202-267-8166, Email: dk.deaderick@faa.gov.

RIN: 2120-AK32

205. Reciprocal Waivers of Claims for Licensed or Permitted Launch and Reentry Activities (RRR)

Legal Authority: 49 U.S.C. 322; 51 U.S.C. 50910 to 50923

Abstract: This rulemaking would extend the waiver of claims for all the customers involved in a launch or reentry, amend the requirement describing which entities are required to sign the statutorily-mandated waiver of claims, and add a new waiver template for the customer's use. This rulemaking would ease the administrative burden on the customers, licensees, permittees, and the FAA, especially when a new customer is added only a short time before the scheduled launch or reentry.

Timetable:

Action | Date | FR Cite
NPRM | 01/13/15 | 80 FR 2015
NPRM Comment Period End | 03/16/15
NPRM Comment Period Reopened | 06/15/15 | 80 FR 34110
Comment Period End | 07/15/15
Final Rule | 05/00/16

Regulatory Flexibility Analysis Required: Yes.

Agency Contact: Shirley McBride, Department of Transportation, Federal Aviation Administration, 800 Independence Avenue SW., Washington, DC 20591, Phone: 202 267-7470, Email: shirley.mcbride@faa.gov.

RIN: 2120-AK44

206. • +Registration and Marking Requirements for Small Unmanned Aircraft

Legal Authority: 49 U.S.C. 106(f); 49 U.S.C. 41703; 49 U.S.C. 44101 to 44106; 49 U.S.C. 44110 to 44113; 49 U.S.C. 44701

Abstract: This interim final rule would establish an alternative, stream-lined, web-based aircraft registration system for certain small unmanned aircraft systems, to help facilitate compliance with existing statutory obligations for aircraft registration. The alternative process will help create a culture of accountability and ensure responsible use of small UAS. As evidenced by the recent reports of unsafe UAS operations, the lack of awareness of operators regarding what must be done to operate UAS safely in the NAS, and the lack of identification of UAS and their operators pose significant challenges in ensuring accountability for responsible use. Without increased awareness and knowledge of the statutory and regulatory requirements for safe operation, the risk of unsafe UAS operations will only rise. Aircraft registration, identification, and marking will assist the Department in identifying owners of UAS that are operated in an unsafe manner, so we may continue to educate these users, and when appropriate, take enforcement action. This rulemaking is based on public comment regarding the proposed aircraft registration process for small UAS in the Operation and Use of Small UAS notice of proposed rulemaking and recommendations from the UAS Registration task force.

Timetable:

Action | Date | FR Cite
Interim Final Rule | 12/16/15 | 80 FR 78593
OMB approval of information collection | 12/21/15 | 80 FR 79255
Final Rule Effective | 12/21/15
Comment Period End | 01/15/16
Analyzing Comments | 06/00/16

Regulatory Flexibility Analysis Required: Yes.

Agency Contact: Sara Mikolop, Department of Transportation, Federal Aviation Administration, 800 Independence Avenue SW., Washington, DC 20591, Phone: 202 267-7776, Email: sara.mikolop@faa.gov.

RIN: 2120-AK82

DEPARTMENT OF TRANSPORTATION (DOT)

Federal Aviation Administration (FAA)

Long-Term Actions

207. +Drug and Alcohol Testing of Certain Maintenance Provider Employees Located Outside of the United States

Legal Authority: 14 CFR; 49 U.S.C. 106(g); 49 U.S.C. 40113; 49 U.S.C. 44701; 49 U.S.C. 44702; 49 U.S.C. 44707; 49 U.S.C. 44709; 49 U.S.C. 44717

Abstract: This rulemaking is required by the FAA Modernization and Reform Act of 2012. It would require controlled substance testing of some employees working in repair stations located outside the United States. The intended effect is to increase participation by companies outside of the United States in testing of employees who perform safety critical functions and testing standards similar to those used in the repair stations located in the United States. This action is necessary to increase the level of safety of the flying public.

Timetable:

Action | Date | FR Cite
ANPRM | 03/17/14 | 79 FR 14621
Comment Period Extended | 05/01/14 | 79 FR 24631
ANPRM Comment Period End | 05/16/14
Comment Period End | 07/17/14
NPRM | 05/00/17

Regulatory Flexibility Analysis Required: Yes.

Agency Contact: Vicky Dunne, Department of Transportation, Federal Aviation Administration, 800 Independence Avenue SW., Washington, DC 20591, Phone: 202 267-8522, Email: vicky.dunne@faa.gov.

RIN: 2120-AK09

DEPARTMENT OF TRANSPORTATION (DOT)

Federal Aviation Administration (FAA)

Completed Actions

208. Flight Simulation Training Device Qualification Standards for Extended Envelope and Adverse Weather Event Training (International Cooperation)

Legal Authority: 49 U.S.C. 106(g); 49 U.S.C. 40113; 49 U.S.C. 44701; Pub. L. 111-216; 124 Stat. 2348; 49 U.S.C. 106(f)

Abstract: This rulemaking would amend the Qualification Performance Standards for flight simulation training devices (FSTDs) for the primary purpose of improving existing technical standards and introducing new technical standards for full stall and stick pusher maneuvers, upset recognition and recovery maneuvers, maneuvers conducted in airborne icing conditions, takeoff and landing maneuvers in gusting crosswinds, and bounced landing recovery maneuvers. These new and improved technical standards are intended to fully define FSTD fidelity requirements for conducting new flight training tasks introduced through recent changes to the air carrier training requirements, as well as to address various National Transportation Safety Board (NTSB) and Aviation Rulemaking Committee recommendations. This final rule also updates the FSTD technical standards to better align with the current international FSTD evaluation guidance and introduces a new FSTD level that expands the number of qualified flight training tasks in a fixed-base flight training device. These changes will ensure that the training and testing environment is accurate and realistic, will codify existing practice, and will provide greater harmonization with international guidance for simulation. The amendments will not apply to previously qualified FSTDs with the exception of the FSTD Directive, which codifies the new FSTD technical standards for specific training tasks.

Timetable:

Action | Date | FR Cite
NPRM | 07/10/14 | 79 FR 39461
NPRM Comment Period Extended | 09/16/14 | 79 FR 55407
NPRM Comment Period End | 10/08/14
Comment Period Extended | 01/06/15
Final Action | 03/03/16 | 81 FR 18177
Final Action Effective | 05/31/16

Regulatory Flexibility Analysis Required: Yes.

Agency Contact: Larry McDonald, Department of Transportation, Federal Aviation Administration, P.O. Box 20636, Atlanta, GA 30320, Phone: 404-474-5620, Email: larry.e.mcdonald@faa.gov.

RIN: 2120-AK08

BILLING CODE 4910-13-P

DEPARTMENT OF TRANSPORTATION (DOT)

Federal Motor Carrier Safety Administration (FMCSA)

Final Rule Stage

209. +Commercial Drivers' License Drug and Alcohol Clearinghouse (MAP-21)

Legal Authority: 49 U.S.C. 31306

Abstract: This rulemaking would create a central database for verified positive controlled substances and alcohol test results for commercial driver's license (CDL) holders and refusals by such drivers to submit to testing. This rulemaking would require employers of CDL holders and service agents to report positive test results and refusals to test into the Clearinghouse. Prospective employers, acting on an application for a CDL driver position with the applicant's written consent to access the Clearinghouse, would query the Clearinghouse to determine if any specific information about the driver applicant is in the Clearinghouse before allowing the applicant to be hired and to drive CMVs. This rulemaking is intended to increase highway safety by ensuring CDL holders, who have tested positive or have refused to submit to testing, have completed the U.S. DOT's return-to-duty process before driving CMVs in interstate or intrastate commerce. It is also intended to ensure that employers are meeting their drug and alcohol testing responsibilities. Additionally, provisions in this rulemaking would also be responsive to requirements of the Moving Ahead for Progress in the 21st Century (MAP-21) Act. MAP-21 required creation of the Clearinghouse by 10/1/14.

Timetable:

Action | Date | FR Cite
NPRM | 02/20/14 | 79 FR 9703
Comment Period End | 04/21/14
Comment Period End | 04/22/14 | 79 FR 22467
Comment Period Extended | 04/22/14 | 79 FR 22467
Final Rule | 07/00/16

Regulatory Flexibility Analysis Required: Yes.

Agency Contact: Juan Moya, Department of Transportation, Federal Motor Carrier Safety Administration, Washington, DC 20590, Phone: 202 366-4844, Email: juan.moya@dot.gov.

RIN: 2126-AB18

DEPARTMENT OF TRANSPORTATION (DOT)

Federal Motor Carrier Safety Administration (FMCSA)

Long-Term Actions

210. +Carrier Safety Fitness Determination

Legal Authority: 49 U.S.C. 31144; sec. 4009 of TEA-21

Abstract: FMCSA proposes to amend the Federal Motor Carrier Safety Regulations (FMCSRs) to adopt revised methodologies that would result in a safety fitness determination (SFD). The proposed methodologies would determine when a motor carrier is not fit to operate commercial motor vehicles (CMVs) in or affecting interstate commerce based on (1) the carrier's on-road safety performance in relation to five of the Agency's seven Behavioral Analysis and Safety Improvement Categories (BASICs); (2) an investigation; or (3) a combination of on-road safety data and investigation information. The intended effect of this action is to more effectively use FMCSA data and resources to identify unfit motor carriers and to remove them from the Nation's roadways.

Timetable:

Action | Date | FR Cite
NPRM | 01/21/16 | 81 FR 3562
NPRM Comment Period End | 04/20/16
Next Action Undetermined

Regulatory Flexibility Analysis Required: Yes.

Agency Contact: David Miller, Regulatory Development Division, Department of Transportation, Federal Motor Carrier Safety Administration, 1200 New Jersey Avenue SE., Washington, DC 20590, Phone: 202 366-5370, Email: david.miller@dot.gov.

RIN: 2126-AB11

211. +Entry-Level Driver Training (Section 610 Review)

Legal Authority: 49 U.S.C. 31136

Abstract: FMCSA proposes new training standards for certain individuals applying for their initial commercial driver's license (CDL); an upgrade of their CDL (e.g., a Class B CDL holder seeking a Class A CDL); or a hazardous materials, passenger, or school bus endorsement for their license; and a “refresher” training curriculum. These individuals would be subject to the proposed entry-level driver training requirements and must complete a course of instruction provided by an entity that (1) meets the minimum qualifications for training providers, (2) covers the curriculum, (3) is listed on FMCSA's proposed Training Provider Registry, and (4) submits electronically to FMCSA the training certificate for each individual who completes the training. This NPRM responds to a Congressional mandate imposed under the Moving Ahead for Progress in the 21st Century Act. The proposed rule is based on consensus recommendations from the Agency's Entry-Level Driver Training Advisory Committee (ELDTAC), a negotiated rulemaking committee which held a series of meetings between February and May 2015. The compliance date of the rule would be three years after the effective date of the final rule.

Timetable:

Action | Date | FR Cite
NPRM | 03/07/16 | 81 FR 11944
NPRM Comment Period End | 04/06/16
Next Action Undetermined

Regulatory Flexibility Analysis Required: Yes.

Agency Contact: Sean Gallagher, MC-PRR, Department of Transportation, Federal Motor Carrier Safety Administration, 1200 New Jersey Ave. SE., Washington, DC 20590, Phone: 202 366-3740, Email: sean.gallagher@dot.gov.

RIN: 2126-AB66

DEPARTMENT OF TRANSPORTATION (DOT)

Federal Motor Carrier Safety Administration (FMCSA)

Completed Actions

212. +Electronic Logging Devices and Hours of Service Supporting Documents (MAP-21) (RRR)

Legal Authority: 49 U.S.C. 31502; 31136(a); Pub. L. 103.311; 49 U.S.C. 31137(a)

Abstract: This rulemaking would establish: (1) Minimum performance and design standards for hours-of-service (HOS) electronic logging devices (ELDs); (2) requirements for the mandatory use of these devices by drivers currently required to prepare HOS records of duty status (RODS); (3) requirements concerning HOS supporting documents; and (4) measures to address concerns about harassment resulting from the mandatory use of ELDs.

Timetable:

Action | Date | FR Cite
NPRM | 02/01/11 | 76 FR 5537
NPRM Comment Period End | 02/28/11
NPRM Comment Period Extended | 03/10/11 | 76 FR 13121
NPRM Comment Period Extended End | 05/23/11
SNPRM | 03/28/14 | 79 FR 17656
SNPRM Comment Period End | 05/27/14
Final Rule | 12/16/15 | 80 FR 78292
Final Rule Effective | 02/16/16

Regulatory Flexibility Analysis Required: Yes.

Agency Contact: Brian Routhier, Department of Transportation, Federal Motor Carrier Safety Administration, 1200 New Jersey Avenue SE., Washington, DC 20590, Phone: 202 366-1225, Email: brian.routhier@dot.gov.

RIN: 2126-AB20

BILLING CODE 4910-EX-P

DEPARTMENT OF TRANSPORTATION (DOT)

Federal Railroad Administration (FRA)

Proposed Rule Stage

213. +Passenger Equipment Safety Standards Amendments (RRR)

Legal Authority: 49 U.S.C. 20103

Abstract: This rulemaking would amend 49 CFR part 238 to update existing safety standards for passenger rail equipment. Specifically, the proposed rulemaking would add standards for alternative compliance with requirements for tier I passenger equipment, increase the maximum authorized speed for tier II passenger equipment, and add requirements for a new tier III category of passenger equipment.

Timetable:

Action | Date | FR Cite
NPRM | 07/00/16

Regulatory Flexibility Analysis Required: Yes.

Agency Contact: Kathryn Shelton, Trial Attorney, Department of Transportation, Federal Railroad Administration, 1200 New Jersey Avenue SE., Washington, DC 20590, Phone: 202 493-6063, Email: kathryn.shelton@fra.dot.gov.

RIN: 2130-AC46

DEPARTMENT OF TRANSPORTATION (DOT)

Federal Railroad Administration (FRA)

Final Rule Stage

214. +Train Crew Staffing and Location

Legal Authority: 28 U.S.C. 2461, note; 49 CFR 1.89; 49 U.S.C. 20103; 49 U.S.C. 20107; 49 U.S.C. 21301-21302; 49 U.S.C. 21304

Abstract: This rulemaking would add minimum requirements for the size of different train crew staffs depending on the type of operation. The minimum crew staffing requirements would reflect the safety risks posed to railroad employees, the general public, and the environment. This rulemaking would also establish minimum requirements for the roles and responsibilities of the second train crew member on a moving train, and promote safe and effective teamwork. Additionally, this rulemaking would permit a railroad to submit information to FRA and seek approval if it wants to continue an existing operation with a one-person train crew or start up an operation with less than two crew members.

Timetable:

Action | Date | FR Cite
NPRM | 03/15/16 | 81 FR 13918
NPRM Comment Period End | 05/16/16
Final Rule | 09/00/16

Regulatory Flexibility Analysis Required: Yes.

Agency Contact: Kathryn Shelton, Trial Attorney, Department of Transportation, Federal Railroad Administration, 1200 New Jersey Avenue SE., Washington, DC 20590, Phone: 202 493-6063, Email: kathryn.shelton@fra.dot.gov.

RIN: 2130-AC48

BILLING CODE 4910-06-P

DEPARTMENT OF TRANSPORTATION (DOT)

Saint Lawrence Seaway Development Corporation (SLSDC)

Completed Actions

215. • Tariff of Tolls (Rulemaking Resulting From a Section 610 Review)

Legal Authority: 33 U.S.C. 981 et seq.

Abstract: The Saint Lawrence Seaway Development Corporation (SLSDC) and the St. Lawrence Seaway Management Corporation (SLSMC) of Canada, under international agreement, jointly publish and currently administer the St. Lawrence Seaway Tariff of Tolls in their respective jurisdictions. The tariff sets forth the level of tolls assessed on all commodities and vessels transiting the facilities operated by the SLSDC and the SLSMC. The SLSDC is revising its regulations to reflect the fees and charges levied by the SLSMC in Canada starting in the 2006 navigation season, which are effective only in Canada. An amendment to increase the minimum charge per lock for those vessels that are not pleasure craft or subject in Canada to tolls under items 1 and 2 of the tariff for full or partial transit of the Seaway will apply in the U.S. (See Supplementary Information.)

Timetable:

Action | Date | FR Cite
NPRM | 02/09/16 | 81 FR 6810
NPRM Comment Period End | 03/10/16 |
Final Rule | 03/17/16 | 81 FR 14390
Final Rule Effective | 03/21/16 |

Regulatory Flexibility Analysis Required: No.

Agency Contact: Carrie Lavigne, Department of Transportation, Saint Lawrence Seaway Development Corporation, 1200 New Jersey Avenue SE., Washington, DC 20590, Phone: 315 764-3231, Email: carrie.mann@dot.gov.

RIN: 2135-AA38

216. • Seaway Regulations and Rules: Periodic Update, Various Categories (Rulemaking Resulting From a Section 610 Review)

Legal Authority: 33 U.S.C. 981 et seq.

Abstract: The Saint Lawrence Seaway Development Corporation (SLSDC) and the St. Lawrence Seaway Management Corporation (SLSMC) of Canada, under international agreement, jointly publish and currently administer the St. Lawrence Seaway Regulations and Rules (Practices and Procedures in Canada) in their respective jurisdictions. Under agreement with the SLSMC, the SLSDC is amending the joint regulations by updating the Seaway Regulations and Rules in various categories. The changes will update the following sections of the Regulations and Rules: Condition of Vessels; Preclearance and Security for Tolls; Tolls Assessment and Payment; Seaway Navigation; Dangerous Cargo; Toll Assessment and Payment; and, Information and Reports. These amendments are necessary to take account of updated procedures and will enhance the safety of transits through the Seaway. Several of the amendments are merely editorial or for clarification of existing requirements.

Timetable:

Action | Date | FR Cite
NPRM | 02/05/16 | 81 FR 6198
NPRM Comment Period End | 03/07/16 |
Final Rule | 03/15/16 | 81 FR 13744
Final Rule Effective | 03/21/16 |

Regulatory Flexibility Analysis Required: No.

Agency Contact: Carrie Lavigne, Department of Transportation, Saint Lawrence Seaway Development Corporation, 1200 New Jersey Avenue SE., Washington, DC 20590, Phone: 315 764-3231, Email: carrie.mann@dot.gov.

RIN: 2135-AA39

BILLING CODE 4910-61-P

DEPARTMENT OF TRANSPORTATION (DOT)

Pipeline and Hazardous Materials Safety Administration (PHMSA)

Proposed Rule Stage

217. +Pipeline Safety: Amendments to Parts 192 and 195 To Require Valve Installation and Minimum Rupture Detection Standards

Legal Authority: 49 U.S.C. 60101 et seq.

Abstract: This rule would propose installation of automatic shutoff valves, remote controlled valves, or equivalent technology and establish performance based meaningful metrics for rupture detection for gas and liquid transmission pipelines. The overall intent is that rupture detection metrics will be integrated with ASV and RCV placement with the objective of improving overall incident response. Rupture response metrics would focus on mitigating large, unsafe, uncontrolled release events that have a greater potential consequence. The areas proposed to be covered include High Consequence Areas (HCA) for hazardous liquids and HCA, Class 3 and 4 for natural gas (including could affect areas).

Timetable:

Action | Date | FR Cite
NPRM | 09/00/16 |

Regulatory Flexibility Analysis Required: Yes.

Agency Contact: Lawrence White, Attorney-Advisor, Department of Transportation, Pipeline and Hazardous Materials Safety Administration, 400 Seventh Street SW., Washington, DC 20590, Phone: 202 366-4400, Fax: 292 366-7041.

RIN: 2137-AF06

218. +Hazardous Materials: Oil Spill Response Plans and Information Sharing for High-Hazard Flammable Trains

Legal Authority: 33 U.S.C. 1321; 49 U.S.C. 5101 et seq.

Abstract: This rulemaking, developed in consultation with the Federal Railroad Administration, would revise PHMSA's regulations to expand the applicability of comprehensive oil spill response plans (OSRPs) based on thresholds of liquid petroleum oil that apply to an entire train. We are also proposing to revise the format and clarify requirements of a comprehensive OSRP and to require railroads to share information about high-hazard flammable train operations with state and tribal emergency response organizations (i.e., State Emergency Response Commissions and Tribal Emergency Response Commissions) to improve community preparedness. Lastly, PHMSA is proposing an update to boiling point testing procedures to provide regulatory flexibility and promotes enhanced safety in transport through accurate packing group assignment.

Timetable:

Action | Date | FR Cite
ANPRM | 08/01/14 | 79 FR 45079
ANPRM Comment Period End | 09/30/14 |
NPRM | 05/00/16 |

Regulatory Flexibility Analysis Required: Yes.

Agency Contact: Victoria Lehman, Transportation Specialist, Department of Transportation, Pipeline and Hazardous Materials Safety Administration, 1200 New Jersey Avenue SE., Washington, DC 20590, Phone: 202 366-8553, Email: victoria.lehman@dot.gov.

RIN: 2137-AF08

DEPARTMENT OF TRANSPORTATION (DOT)

Pipeline and Hazardous Materials Safety Administration (PHMSA)

Final Rule Stage

219. +Pipeline Safety: Safety of Hazardous Liquid Pipelines

Legal Authority: 49 U.S.C. 60101 et seq.

Abstract: In recent years, there have been significant hazardous liquid pipeline accidents, most notably the 2010 crude oil spill near Marshall, Michigan, during which almost one million gallons of crude oil were spilled into the Kalamazoo River. In response to accident investigation findings, incident report data and trends, and stakeholder input, PHMSA published a Notice of Proposed Rulemaking (NPRM) in the Federal Register on October 13, 2015. Previously, Congress had enacted the Pipeline Safety, Regulatory Certainty, and Job Creation Act that included several provisions that are relevant to the regulation of hazardous liquid pipelines. Shortly after the Pipeline Safety, Regulatory Certainty, and Job Creation Act was passed, the National Transportation Safety Board (NTSB) issued its accident investigation report on the Marshall, Michigan, accident. In this rulemaking action, PHMSA is amending the Pipeline Safety Regulations to improve protection of the public, property, and the environment by closing regulatory gaps where appropriate, and ensuring that operators are increasing the detection and remediation of unsafe conditions, and mitigating the adverse effects of hazardous liquid pipeline failures.

Timetable:

Action | Date | FR Cite
ANPRM | 10/18/10 | 75 FR 63774
Comment Period Extended | 01/04/11 | 76 FR 303
ANPRM Comment Period End | 01/18/11 |
Extended Comment Period End | 02/18/11 |
NPRM | 10/13/15 | 80 FR 61610
NPRM Comment Period End | 01/08/16 |
Final Rule | 10/00/16 |

Regulatory Flexibility Analysis Required: Yes.

Agency Contact: John A. Gale, Transportation Regulations Specialist, Department of Transportation, Pipeline and Hazardous Materials Safety Administration, 1200 New Jersey Avenue SE., Washington, DC 20590, Phone: 202-366-0434, Email: john.gale@dot.gov.

RIN: 2137-AE66

220. Pipeline Safety: Issues Related to the Use of Plastic Pipe in Gas Pipeline Industry (RRR)

Legal Authority: 49 U.S.C. 60101 et seq.

Abstract: In this rule, PHMSA is amending the natural and other gas pipeline safety regulations (49 CFR part 192) to address regulatory requirements involving plastic piping systems used in gas services. These amendments are intended to correct errors, address inconsistencies, and respond to petitions for rulemaking. The requirements in several subject matter areas are affected, including incorporation of tracking and traceability provisions; design factor for polyethylene (PE) pipe; more stringent mechanical fitting requirements; updated and additional regulations for risers; expanded use of Polyamide-11 (PA-11) thermoplastic pipe; incorporation of newer Polyamide-12 (PA-12) thermoplastic pipe; and incorporation of updated and additional standards for fittings.

Timetable:

Action | Date | FR Cite
NPRM | 05/21/15 | 80 FR 29263
NPRM Comment Period End | 07/31/15 |
Final Rule | 10/00/16 |

Regulatory Flexibility Analysis Required: Yes.

Agency Contact: Cameron H. Satterthwaite, Transportation Regulations Specialist, Department of Transportation, Pipeline and Hazardous Materials Safety Administration, 1200 New Jersey Avenue SE., Washington, DC 20590, Phone: 202-366-8553, Email: cameron.satterthwaite@dot.gov.

RIN: 2137-AE93

221. Pipeline Safety: Operator Qualification, Cost Recovery, Accident and Incident Notification, and Other Changes (RRR)

Legal Authority: 49 U.S.C. 60101 et seq.

Abstract: PHMSA is amending the pipeline safety regulations to address requirements of the Pipeline Safety, Regulatory Certainty, and Job Creation Act of 2011 (2011 Act), and to update and clarify certain regulatory requirements. Under the 2011 Act, PHMSA is adding a specific time frame for telephonic or electronic notifications of accidents and incidents and adding provisions for cost recovery for design reviews of certain new projects. Among other provisions, PHMSA is adding a procedure for renewal of expiring special permits, and for submitters of information requesting PHMSA to keep some information confidential. In addition, PHMSA is amending the operator qualification (OQ) requirements, drug and alcohol testing requirements, and incorporating consensus standards by reference for in-line inspection (ILI) and Stress Corrosion Cracking Direct Assessment (SCCDA).

Timetable:

Action | Date | FR Cite
NPRM | 07/10/15 | 80 FR 39916
NPRM Comment Period End | 09/08/15 |
Final Rule | 10/00/16 |

Regulatory Flexibility Analysis Required: Yes.

Agency Contact: John A. Gale, Transportation Regulations Specialist, Department of Transportation, Pipeline and Hazardous Materials Safety Administration, 1200 New Jersey Avenue SE., Washington, DC 20590, Phone: 202-366-0434, Email: john.gale@dot.gov.

RIN: 2137-AE94

BILLING CODE 4910-60-P

DEPARTMENT OF TRANSPORTATION (DOT)

Maritime Administration (MARAD)

Proposed Rule Stage

222. +Cargo Preference

Legal Authority: 49 CFR 1.66; 46 app U.S.C. 1101; 46 app U.S.C. 1241; 46 U.S.C. 2302 (e)(1); Pub. L. 91-469

Abstract: This rulemaking would revise and clarify the cargo preference regulations that have not been revised substantially since 1971. The rulemaking would also implement statutory changes, including section 3511, Public Law 110-417, of The National Defense Authorization Act for FY 2009, which provides enforcement authority.

Timetable:

Action | Date | FR Cite
NPRM | 05/00/16 |

Regulatory Flexibility Analysis Required: Yes.

Agency Contact: Mitch Hudson, Attorney, Department of Transportation, Maritime Administration, 1200 New Jersey Avenue SE., Washington, DC 20590, Phone: 202 366-9373, Email: mitch.hudson@dot.gov.

RIN: 2133-AB74

BILLING CODE 4910-81-P

[FR Doc. 2016-12913 Filed 6-8-16; 8:45 am]

BILLING CODE 4910-81-P